DEPARTMENT OF HOMELAND SECURITY

Coast Guard

33 CFR Parts 83, 84, 85, 86, 87, and 88

[Docket No. USCG-2012-0102]

RIN 1625-AB88

Changes to the Inland Navigation Rules

AGENCY: Coast Guard, DHS.

ACTION: Final rule.

SUMMARY: The Coast Guard is amending the inland navigation rules and their annexes to align the regulations with amendments made by the International Maritime Organization to the Convention on the International Regulations for Preventing Collisions at Sea, to which the United States is a signatory, and to incorporate recommendations made by the Navigation Safety Advisory Council. These changes harmonize domestic and international law by reducing and alleviating equipment requirements on vessels, addressing technological advancements, such as wing-in-ground craft, and increasing public awareness of the inland navigation rules. These changes also make references to applicable requirements easier to locate by using the same format in domestic regulations as is used in the international convention.

DATES: This final rule is effective August 1, 2014.

ADDRESSES: Comments and material received from the public, as well as documents mentioned in this preamble as being available in the docket, are part of docket USCG-2012-0102 and are available for inspection or copying at the Docket Management Facility (M-30), U.S. Department of Transportation, West Building Ground Floor, Room W12-140, 1200 New Jersey Avenue SE., Washington, DC 20590, between 9 a.m. and 5 p.m., Monday through Friday, except Federal holidays. You may also find this docket online by going to http://www.regulations.gov and following the instructions on that Web site.

FOR FURTHER INFORMATION CONTACT: If you have questions on this rule, call or email Lieutenant Commander Megan L Cull, Coast Guard; telephone 202-372-1565, email megan.l.cull@uscg.mil. If you have questions on viewing the docket, call Ms. Cheryl Collins, Program Manager, Docket Operations, telephone 202-366-9826.

SUPPLEMENTARY INFORMATION:

Table of Contents for Preamble

I. Abbreviations

II. Basis and Purpose

III. Background and Regulatory History

IV. Discussion of Comments and Changes

A. General comments regarding the rulemaking including comments on harmonization and formatting.

B. Comments received to proposed changes resulting in modification of regulation

C. Comments received to unaltered text that resulted in change

D. Comments received on unaltered text that did not result in change

E. Technical changes

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

COLREGS Convention on the International Regulations for Preventing Collisions at Sea

DHS Department of Homeland Security

E.O. Executive Order

FR Federal Register

IMO International Maritime Organization

NAVSAC Navigation Safety Advisory Council

NBSAC National Boating Safety Advisory Council

NPRM Notice of proposed rulemaking

OMB Office of Management and Budget

§ Section symbol

RAM Restricted in ability to maneuver

SOLAS International Convention for the Safety of Life at Sea

U.S.C. United States Code

WIG craft Wing-in-Ground craft

II. Basis and Purpose

The purpose of this rulemaking is to harmonize existing domestic law with current international law because as currently written, Coast Guard regulations relating to inland navigation rules are inconsistent with the international standards found in the Convention on the International Regulations for Preventing Collisions at Sea (COLREGS), to which the United States is a signatory. In addition to the alignment with international standards, the Navigation Safety Advisory Council (NAVSAC) recommended several changes to the regulations that simplify the inland navigation rules and alternatives to equipment requirements for certain vessels. The Coast Guard has initiated this rulemaking under the authority of the Coast Guard and Maritime Transportation Act of 2004 (Pub. L. 108-293) and Department of Homeland Security Delegation 0170.1, Delegation to the Commandant of the Coast Guard.

III. Background and Regulatory History

In 1972, the International Maritime Organization (IMO) formalized the COLREGS. The United States ratified this treaty and adopted the COLREGS in the International Navigation Rules Act of 1977. Ratification of this treaty made all U.S. vessels subject to the COLREGS while operating on international waters. The corresponding rules for inland waters, or inland navigation rules, did not go into effect until Congress enacted the Inland Navigational Rules Act of 1980. The inland navigation rules and the COLREGS are very similar in both content and format.

The IMO has made several amendments to the COLREGS since they were promulgated in 1972. The United States has adopted these amendments through statute until the two most recent IMO amendments in 2001 and 2007.

In 2004, Congress passed the Coast Guard and Maritime Transportation Act of 2004, which amended Section 3 of the Inland Navigational Rules Act of 1980 and in effect, gave the Secretary of Homeland Security (“the Secretary”) the authority to issue inland navigation regulations. The Secretary delegated the authority to develop and enforce navigation safety regulations to the Commandant of the Coast Guard through Department of Homeland Security Delegation 0170.1, “Delegation to the Commandant of the Coast Guard.” Based on this authority, the Coast Guard is incorporating the 2001 and 2007 IMO amendments in this final rule (FR).

In 2010, the Coast Guard used the authority granted by Congress and delegated by the Secretary to move the inland navigation rules from the United States Code (U.S.C.) to 33 CFR part 83. 75 FR 19544. Regulations in 33 CFR part 83, along with regulations in 33 CFR parts 84 through 88, now comprise the complete domestic inland navigation rules. Movement to the CFR in 2010 effectively ended statutory codification of the inland rules of the road.

The Coast Guard published the Changes to the Inland Navigation Rules NPRM on August 28, 2012. (77 FR 52176). This NPRM proposed amendments to 33 CFR part 83, along with 33 CFR parts 84 through 88, to align U.S. inland navigation rules with the COLREGS as much as practicable and to incorporate other NAVSAC recommendations and Coast Guard changes.

IV. Discussion of Comments and Changes

We received 49 comments from 10 different commenters representing educational institutions, maritime organizations, and private companies. We decided to organize this discussion of comments under the following headings: General comments regarding the rulemaking including comments on harmonization and formatting; comments received to proposed changes resulting in modification of this regulation; comments to unaltered text resulting in changes to the rule; and comments to unaltered text not resulting in changes to the rule.

The first section below includes our responses to comments regarding the overall rulemaking, including the topics of harmonization and formatting; a rejected NAVSAC recommendation; preemption; and lighting and bells.

A. General Comments Regarding the Rulemaking Including Comments on Harmonization and Formatting

One commenter complimented the Coast Guard on the extensive work that went into creating a “safety [oriented and] efficient draft with minimal cost to mariners and operators.” We appreciate that the effort was noted. We believe navigational safety should always be paramount and we strive to balance the cost to the mariners with the risks associated with operating on the water and the need to improve safety of navigation.

1. Formatting and Harmonization

Regarding our effort to harmonize with the COLREGS, we received three comments. One was generally supportive, stating that recreational boaters find that uniform, consistent regulations make compliance easier, thereby increasing their overall safety on the water. We agree with this statement, as it is our intent to make compliance easier and to follow NAVSAC's and the U. S. Government's direction to align the inland navigation rules with the COLREGS.

The second commenter was concerned about the effect that harmonization with the international standards would have on the CFR language and the commenter recommended keeping titles of sections and subsections in the CFR. After taking this commenter's recommendation into account, we decided to proceed with our proposal to align with the COLREGS but ensured that regulatory references in 33 CFR parts 83-88 accurately reflect the amended text of the rule and match the COLREGS. When further clarity was required, we inserted the exact rules to which the regulation pertains in parenthesis and clarified which subparts the rule was referencing. Our reasoning is as follows: IMO uses the term “Part” to describe a section but because of CFR formatting, those references would have to become “Subpart.” Additionally, where the IMO referenced a “Section” we were unable to use that term because of the contextual meaning the term “Section” has within the CFR.

Lastly, the third commenter was concerned about the inland navigation rules being formatted differently from the rest of the CFR and stated that conforming to the COLREGS is counterproductive to making the rules easier to read because, in this instance, we are utilizing a different numbering system from the rest of the CFR. We understand the reason for concern but feel that the application of these rules in waters adjacent to areas where the COLREGS apply makes it vitally important to ensure consistency between the two areas. Adopting the international format and titling scheme furthers our goal of making compliance easy, because it makes the regulatory transition as seamless as possible between inland waters (where these inland navigation rules apply) and international waters (where the COLREGS apply). The Office of the Federal Register (publisher of the CFR) approved and authorized this deviation from their standard format.

Pertaining to format concerns, one commenter wrote to request clarification of the proposed text which states that in § 83.01 “regulations in this subchapter” seem to be limited to Part 83 of Title 33 of the CFR. When we say “regulations in this subchapter”, we are referring to subchapter E—Inland Navigation Rules, which includes Part 83 through 90. The commenter also questioned the use of “Part” in § 83.08(a) which states “in accordance with the Rules of this Part”. This is an instance in which we applied the deviation from the COLREGS and inserted a reference to the applicable rules; in this case we changed “Part” to “Subpart” and inserted “(Rules 4-19)” to clear up any confusion.

2. The Rejected NAVSAC Recommendation

We received an unfavorable comment regarding the Coast Guard's decision not to adopt an alternative proposed by NAVSAC that would require vessels greater than 16 feet in length to carry the inland navigation rules booklet; we reasoned in the regulatory analyses of the NPRM that there was a “lack of quantifiable benefits to justify a high regulatory burden on recreational vessels at this time.” ¹ The commenter stated that the inland navigation rules apply to all vessels, specifically pointing to rules regarding application (Rule 1), responsibility (Rule 2), and definitions (Rule 3), and recommended an alternative threshold for carriage of the inland navigation rules booklet which would require carriage on “recreational vessels that have room for more than three crew.”

¹ 33 Section V(A)(2) of this preamble, “Alternative 2—Incorporation of burden is increasing NAVSAC recommendations”.

The Coast Guard continues to believe that mandatory carriage of the inland navigation rules booklet should not be expanded beyond the current population of “self-propelled vessels of 12 meters or more in length”. We do not believe it would improve navigational safety for vessels less than 12 meters in length to carry the booklet, and the cost of requiring the nearly 6.5 million vessels within this category to carry the booklet (which costs $23 from the Government Printing Office, purchasing information is provided below) ² or electronic copy is unnecessarily costly (approximately $150 million total), particularly in light of the following additional considerations.

² http://bookstore.gpo.gov/products/sku/050-012-00407-2.

First, according to the Coast Guard's annual Recreational Boating Statistics,³ only 14 percent of reported boating deaths occurred on boats where the operator had received boating safety instruction. Furthermore, only nine percent of reported boating deaths occurred on boats where the operator had received safety instruction from a course provider approved by the National Association of State Boating Law Administrators (NASBLA). Based on these statistics, the Coast Guard believes that boating safety courses, especially those approved by NASBLA, reduce reportable accidents and incidents. These approved courses include navigation rules familiarization and are required for some or all boat owners in nearly half of the United States.⁴ As a result of ever increasing state mandates for boating education, the number of recreational boaters that have completed a NASBLA-approved course has increased by more than 23 percent, from 397,633 in 2008 to 491,525 in 2012.⁵ The Coast Guard believes that expanding overall knowledge of the navigational rules has contributed to the decrease in reportable accidents and fatalities. Therefore, the Coast Guard's position is that navigation rules education offers better prevention than the simple requirement to carry the booklet. The Coast Guard does recognize the value of having a copy of the booklet aboard for reference, but believes that emphasis must remain on boaters' knowledge of the rules. Although the Coast Guard is not expanding the requirement to carry the inland navigation rules booklet based on the commenter's recommendation, operators on vessels less than 12 meters may do so voluntarily.

³ Coast Guard Recreational Boating Statistics are viewable online at: http://www.uscgboating.org/statistics/accident_statistics.aspx.

⁴ Approved navigation courses are listed here: http://www.nasbla.net/courseListing.php. An example of a training course that provides “rules of the road” can be seen here: http://www.boatcourse.com/California/default.aspx.

⁵ Based on annual reporting the Coast Guard receives from 56 States and territories on the number of recreational boaters completing NASBLA-approved courses.

Secondly, the enforcement of required carriage, as proposed by the commenter, is particularly challenging. There are no current correlating measures of “crew” because recreational vessels are not required to have professional “crew” nor are there any capacity requirements which correlate to capacity for the application of the recommended requirement. Thirdly, the requirement for vessels of less than 12 meters in length to carry a paper book or an electronic copy of the navigation rules may be impractical because a large portion of the population of impacted vessels includes open construction vessels, which have limited or no stowage capacity. We acknowledge that the mandate for commercial vessels and vessels longer than 12 meters may appear as a discrepancy but we believe it to be a matter of practicality. The Coast Guard continues to require the carriage of the inland navigation rules booklet for reference by professional mariners onboard commercial vessels and onboard all vessels over 12 meters in length, but we do not believe that expanding the population required to carry the book as proposed is practical or enforceable.

Finally, at the November 2011 NAVSAC meeting, NAVSAC withdrew this recommendation and has since considered it closed.

3. Preemption

One commenter pointed out that the preemption statement which was proposed to be inserted at § 83.01(a) needs to make clear that field preemption is intended, not merely conflict preemption. We agree with the comment that the rule should explicitly state that Coast Guard regulations regarding inland navigation rules are field preemptive, not merely conflict preemptive. As stated below in our Federalism analysis section, Congress specifically granted to the Coast Guard, through delegation by the Secretary, the exclusive authority to prescribe inland navigation regulations “applicable to all vessels upon the inland waters of the United States and technical annexes that are as consistent as possible with the respective annexes to the International Regulations.” ⁶ In doing so, Congress intended Coast Guard regulations to be exclusive within this field, meaning that states and local governments are preempted from regulating within the field of inland navigation rules.

⁶ 33 U.S.C. 2071.

Additionally, the commenter asked what subchapter the Coast Guard was referring to in the proposed regulatory text, which stated: “The regulations in this subchapter have preemptive effect over State or local regulation within the same field.” The Coast Guard is referring to Subchapter E of Chapter I of Title 33, Code of Federal Regulations, which is the subject of this rulemaking.

Another comment stated that it is unwise for our proposed 33 CFR 83.08 (Rule 8(a)) to differ from the COLREGS by limiting its application to Subpart B of the Rules (i.e., Rules 4-19). We disagree with this statement. This proposed section matches COLREG Rule 8(a), as amended by IMO Resolution A.910(22). The IMO resolution changed the rule to “Any action to avoid collision shall be taken in accordance with the Rules of this Part and shall, if the circumstances of the case admit, be positive, made in ample time and with due regard to the observance of good seamanship.” As we noted above, we have slightly modified the phrase by using “Subpart” where IMO uses “Part”, and therefore have changed our text to reflect the reference appropriately, including a parenthetical reference for clarification. It is our intent that Rule 8(a) should be taken with full knowledge and compliance with Rules 4-19.

4. Lighting and Bells

We received two comments regarding our proposed change to allow the optional display of an all-round white light by sailing vessels less than 7 meters in length and vessels under oars in § 83.25(d)(i) and (ii). One commenter agreed and noted that many of these vessels lack an installed electrical system and that the option to display an all-round white light would provide an additional level of flexibility to boaters. We agree that boating and navigational safety would only improve with this optional lighting arrangement. The other commenter, however, thought this proposed change was contradictory, confusing, and potentially dangerous. He contended that a constant white light with accompanying sidelights is universally recognized as the navigation lights of a power-driven vessel, and that § 83.23(d) specifically authorizes this combination for power-driven vessels of less than 12 meters in length. As an alternative, he recommended that we create a new signal utilizing alternately flashing red and green lights in keeping with the optional red over green masthead lights authorized for sailing vessels in § 83.25(c) or prescribe that the white light displayed by these small sailing vessels or vessels under oars be flashing at a frequency of 120 flashes or more per minute (in accordance with the definition of a flashing light in § 83.21(f)). The Coast Guard agrees that a white light with sidelights is universally recognized as the navigation light of a power-driven vessel, but asserts that this rule would not allow these small sailing vessels or vessels under oars to be construed as power-driven vessels because it provides that a single white light would be displayed, not red and green sidelights.

Secondly, we disagree with this comment because, as the Navigation Safety Advisory Council (NAVSAC) and the National Boating Safety Advisory Council (NBSAC) recommend, the proposed change provides these smaller vessels flexibility to enhance safety and visibility. We also disagree with the commenter's assertion that the proposed lighting option is unsafe; providing these vessels with the ability to be better seen would only enhance navigational safety. The optional fixed white light we propose is presented in the COLREGS for vessels of less than 7 meters in length whose maximum speed is less than 7 knots. The Coast Guard believes that application of the all-round white light in the international rules is complementary to this application proposed by NAVSAC for the Inland Navigational Rules. We believe that the optional all-round white light proposed in the NPRM as recommended by NAVSAC and NBSAC provides increased safety over the existing rule which specified that a vessel meeting the criteria was not required to be lighted but may show a fixed white light (white hand torch) which “shall be exhibited in sufficient time to prevent collision” (see 33 CFR 83.25(d)(i)).

Another commenter wrote to support our proposed revision to remove the requirement for a bell aboard vessels greater than 12 meters in length but less than 50 meters. We agree with the commenter; this change recognizes the development of alternative methods, beyond bells, to provide an audible warning to help avoid collisions. The commenter further supported this proposed revision by stating that the change will provide greater flexibility for recreational boaters to comply with the regulations.

Lastly, a commenter stated that the change from “Secretary” to “Coast Guard” in §§ 83.30(g) and 83.35(l) was unexpected but refreshingly clear. We believe it is a change without much distinction but the recent formal delegation to USCG from DHS (Department of Homeland Security Delegation 0170.1, Delegation to the Commandant of the Coast Guard) has allowed this change which should be easier for the public to understand.

B. Comments Received to Proposed Changes Resulting in Modification of Regulation

1. “Other Electronic” in § 83.07(b)

One commenter made several comments regarding our proposed insertion of the words “and other electronic” into § 83.07(b) in accordance with a NAVSAC resolution. The commenter made several arguments: First, that the insertion would be a deviation from the COLREGS, contrary to our goal of aligning with the COLREGS; second, he expressed concern regarding the applicability of `other electronic' navigational equipment as it applies to Rule 7(b) which pertains to the radar and the automatic radar plotting aid (ARPA) functions and their use in collision avoidance; third, the commenter pointed out that the addition results in no substantive change in the rule because paragraph (a) of the rule already requires mariners to use “all available means” to determine if a risk of collision exists. Finally, the commenter argued that the additional requirement may obscure the enforcement and application of the Pennsylvania Rule,⁷ which shifts the burden of proof to a vessel, once it has been established that that vessel has violated a law or regulation intended to prevent collisions, to rebut the presumption of causation by demonstrating that the violation could not have caused the collision.

⁷ The Pennsylvania, 86 US 125; 22 L Ed 148 (1873).

With regard to these comments, the Coast Guard has reconsidered this addition and has decided to withdraw the amendment. We acknowledge that by inserting the language, mariners would have been reminded to use the other electronic navigation equipment. However, the proposed paragraph (b) pertains to radar functions and the functionality currently described there may not directly pertain to all “other electronic equipment”.

Additionally, as the commenter pointed out, one of the guiding principles of this rulemaking was to align with the COLREGS as much as possible. The insertion of the phrase “and other electronic” would have been a deviation from the COLREGS.

Lastly, we recognize that our use of the phrase “other electronic equipment” in § 83.07(b) might have had unintended consequences in light of the Pennsylvania Rule. Specifically, in litigation following a collision, the Pennsylvania Rule as applied to the proposed language could potentially have been used to shift the burden onto a navigational watch officer to prove that his or her failure to employ every electronic device in the wheelhouse did not cause the collision. Our intent in proposing the phrase “other electronic equipment” in § 83.07(b) was to require a navigational watch officer to utilize equipment such as the Automatic Identification System (AIS) to determine whether the risk of collision exists. Paragraph (a) of Rule 7 (§ 83.07) achieves this purpose, without the unintended consequences discussed above, by only requiring officers to use those available means “appropriate to the prevailing circumstances and conditions. . . .”

2. Relocation of §§ 88.11 and 88.12 Regarding Lights on Law Enforcement and Public Safety Vessels

We received three comments regarding our proposed relocation of regulations regarding lights for law enforcement vessels (§ 88.11) and lights for vessels involved in public safety activities (§ 88.12). We had proposed, based on NAVSAC's recommendation, to relocate these paragraphs to 33 CFR 83.27 which pertains to vessels restricted in ability to maneuver. The commenters expressed concern about the unintended consequences of describing these vessels as “restricted in ability to maneuver (RAM)” and how that might impact the hierarchy of vessels as described in Rule 18 (§ 83.18), because it would provide these vessels precedence. Additionally, the existing text in § 88.12, as it describes public safety vessels, specifically indicates that it does not convey any special privilege to these vessels. Therefore, the language as written would be problematic if inserted without edit, as proposed in Rule 27 (§ 83.27), regarding vessels restricted in ability to maneuver (RAM). At the November 2012 NAVSAC meeting members were briefed on the concerns raised by commenters and as a result, NAVSAC amended the original resolution to provide for separate relocation of the paragraph concerning public safety light (§ 88.12) from the law-enforcement light (§ 88.11). It is our opinion that the original intent of the relocation was to facilitate visibility and knowledge of these lights. However, separating these two related regulations (§§ 88.11 and 88.12) would only perpetuate the problem of lack of public knowledge. Additionally, we agree with the commenters that by placing both public safety and law enforcement lights in the RAM section as proposed may unnecessarily provide these vessels with precedence based on hierarchy of vessels as defined in Rule 18.

Since the remainder of existing 33 CFR part 88 has been removed by this rule, we have chosen to renumber the remaining paragraphs sequentially and law-enforcement vessels will now be 33 CFR 88.05 and public safety activities will be 33 CFR 88.07. Additionally, as a result of our decision to retain these provisions in 33 CFR part 88, we also need to retain § 88.01 (Purpose and applicability) and § 88.03 (Definitions).

We received one comment regarding the proposed relocation of § 88.13 (Lights on Barges) and § 88.15 (Dredge Pipelines) to § 83.24(k) through (o), which contains rules pertaining to towing and pushing. The commenter offered that § 83.30 (Anchored Vessels and Vessels Aground) was a better fit, given the content of the paragraphs being relocated. We agree that the requirements for lights on moored barges fits better in the recommended § 83.30(h)-(l) and will rename the section to “Vessels Anchored, Aground, and Moored Barges”. We also agree with the commenter's recommendation to relocate § 88.15 to § 83.27(d)(iv) because it pertains to lights on dredge pipelines and the recommended relocation site pertains to dredging operations.

C. Comments Received to Unaltered Text That Resulted in Change

We received one comment pertaining to § 83.24(f)(iii) and the omission of a comma. The paragraph is meant to depict the configuration of a single towing vessel with barges on both sides (towing on the hips), not multiple towing vessels with barges on both sides in a single configuration. We agree and have inserted a comma so that it now reads: “on both sides of the towing vessel, a sternlight . . .”

We received one comment regarding the permanent exemptions provided for in Rule 38 (§ 83.38) which have long since expired and are no longer necessary (e.g., “9 years after the effective date of the Inland Navigational Rules Act of 1980”). We agree and have chosen to strike this phrase as it occurs in § 83.38 (d)(i), (d)(ii), (d)(iv)(2). Additionally, we have removed § 83.38 (d)(v) and (vii) as proposed in the NPRM because those dates have lapsed. Accordingly, § 83.38 (d)(vi) as proposed in the NPRM has been relocated to § 83.38 (d)(v) in this final rule.

We received one comment regarding the use of the phrase “on a clear dark night” currently in § 88.15 and being relocated to § 83.27(d)(iv) by this rulemaking. The commenter said that the phrase was carried over from the old Pilot Rules but lacks specificity and could lead to disagreement and argument. The commenter recommended striking the phrase from §§ 83.24(p)(i)(3) and 83.24(p)(ii)(2). We concur that the use of “clear dark night” is ambiguous and have chosen to remove the text as recommended.

D. Comments Received on Unaltered Text That Did Not Result in Change

We received one comment expressing concern about inland tow boat operations and the application of international conventions and regulations on them. The commenter recognized the benefit of aligning the inland navigational rules with the COLREGS as proposed by NAVSAC, but was concerned about the application of other international regulations on the inland towing industry. We agree that there are benefits to aligning the inland navigational rules with the COLREGS. This rule does not deal with other international regulations.

One comment we received questioned whether “inland” should be capitalized in each occurrence of the rule to reflect that it is the proper name of those waters specified in The Act and not all internal waters of the United States. We have chosen not to amend other instances of the word “inland” because the statutory authority doesn't capitalize it. See 33 U.S.C. 2071.

We received a comment regarding the practical implication of Rule 3(f) (§ 83.03(f)) pertaining to a vessel not under command; this is defined as a vessel not able to maneuver as required by the rules through some exceptional circumstance and is therefore unable to keep out of the way of another vessel. The commenter argued that vessels not under command because of some exceptional circumstance such as fire, flooding, man-overboard, or the like may well be able or want to maneuver to stabilize the situation aboard the vessel and the commenter was concerned about the limitations imposed by the definition and the vessel's ability or inability to maneuver as a result. We reviewed the definition and believe it provides adequate flexibility for vessels claiming not to be under command, while requiring adequate warning to other vessels operating in the vicinity that the vessel is unable to maneuver as required and may not be able to keep out of the way of other vessels. When this condition is taken in the context of Rule 18 (§ 83.18), these vessels have the highest precedence, and all other vessels should use caution when operating in their vicinity, or as required by 46 U.S.C. 2304, provide assistance.

One comment expressed concern over a contradiction in the definition of a vessel “restricted in ability to maneuver” and those vessels that are likely to claim this status. The commenter pointed out that vessels restricted in ability to maneuver as defined in § 83.03(g) (Rule 3(g)—cable laying, buoy tending, dredging, surveying, replenishment or transferring of personnel, etc) are in fact highly maneuverable. The commenter recommended that the definition in Rule 3(g) be modified to “the term vessel restricted in ability to maneuver means a vessel which, from the nature of her work, is relieved of its obligation to keep out of the way of another vessel as may be required by the rules . . .” We have chosen not to change the text as recommended because: (1) it would be a deviation from the COLREGS; and (2) we feel the current definition adequately provides that a vessel's work is the reason for the restriction and for the effect on the vessel's normal ability to maneuver.

One commenter wrote to say that he was pleased to see that the Coast Guard had decided against including an amendment to § 83.05 (Rule 5) to accommodate and include unmanned vehicles and vessels. The Coast Guard understands that the field of unmanned vessels is growing rapidly but has thus far chosen to defer to the international community on the application of collision avoidance rules to these vessels or vehicles. Accordingly, the U.S. representative at meetings of the international maritime community will continue to advocate for regulations to ensure the safety of both manned and unmanned vessels.

One commenter found the phrase “not to impede” in § 83.08(f) (Rule 8(f)) contradictory and confusing. The commenter stated that while there are very specific responsibilities for give-way and stand-on vessels in Rules 16 and 17 (§§ 83.16-17), the responsibilities are not specific for those vessels which are “not to impede”. Furthermore, the commenter questioned “how a vessel should maneuver if they are deemed to be both `stand-on' and `not to impede'; wouldn't it be a violation of rule 17 if the stand-on vessel maneuvered?” The language we used in this explanation reflects our attempts to align with the COLREGS. In our reading of Rule 8(f), “not to impede” is applicable to vessels crossing a narrow channel or fairway (see § 83.09(d)-Rule 9(d)), vessels engaged in fishing (see § 83.10(i)-Rule 10(i)), and those vessels of less than 20 meters (see § 83.10(j)-Rule 10(j)). Therefore, these vessels have the freedom of navigation and are able to utilize narrow channels and fairways for their own purposes. However, if vessels are sighted utilizing the narrow channel or fairway, these vessels using the channel for their own purposes are to cease and follow the steering and sailing rules while vacating and allowing the safe passage of the other vessel.

One comment proposed a change in § 83.15(b) (Rule 15) regarding power-driven vessels: “a power-driven vessel crossing a river shall keep out of the way of a power-driven vessel ascending or descending the river”. This comment proposed that the power-driven vessel crossing a river was responsible to keep out of the way of any vessel ascending or descending the river. The previous amendment to this rule was a result of a NAVSAC 1992 recommendation. The Coast Guard will ask NAVSAC to consider these concerns at its next meeting.

One commenter pointed out that § 83.19(a) (Rule 19) clearly states that the factor which determines restricted visibility is “vessels not in sight of one another when navigating in or near an area of restricted visibility”. He recommended the definition of restricted visibility be expanded in § 83.03(l) to read: “the term restricted visibility means the inability, due to fog, mist, falling snow, heavy rainstorms, sandstorms or any other similar meteorological condition, to observe visually a potential risk of collision”. The Coast Guard has decided to not change the text in either of the referenced rules because doing so would not align with the COLREGS. Additionally, the proposed change is not needed because § 83.03(l) is clear when read together with § 83.19 (Conduct of vessels in restricted visibility, Rule 19).

We received three comments regarding the use of day shapes as defined by the Rules in Subpart C (§§ 83.20-83.31). One commenter felt that § 83.20 (Rule 20) should be amended to state that the shapes should only be displayed while the vessel is explicitly conducting operations as defined by the use of the shapes. Another commenter pointed out that in § 83.24(e) (Rule 24) the use of the diamond shape for vessels towing another vessel a distance that exceeds 200 meters is often misused; some towing vessels have chosen to permanently display the lights and in doing so may incorrectly be displaying the diamond shape while towing alongside, pushing ahead or towing astern when the length of tow is shorter than 200 meters.

We also received a comment concerning special-purpose lights and shapes. The commenter pointed out that § 83.26(a) (Rule 26(a)) makes it perfectly clear that a “vessel engaged in fishing . . . shall exhibit only the lights and shapes prescribed in this Rule”, and he recommended similar wording be adopted for all vessels displaying special-purpose lights under § 83.20 (Rule 20). The Coast Guard disagrees for the following reasons. First, doing so would not align with the COLREGS. Second, we believe the Rules which provide tacit guidance between § 83.03 (Rule 3) and § 83.20(d) (Rule 20(d)) are adequate for defining when shapes are to be displayed. These rules do not modify the text as one commenter proposed to “The Rules concerning shapes shall be complies (sic) with throughout the twenty-four hour day”. Further, the Oxford Dictionary's definition of day, which is “the part of a day when it is light; the time between sunrise and sunset”, aligns with our use of day shapes. In this way, the application of day shapes is in concert with the use of special purpose lights which are to be used, as specified by § 83.20(b)(Rule 20(b)), “from sunset to sunrise”. Lastly, the rules are explicit about the use and display of day shapes and we point out that 33 U.S.C. 2072 provides the enforcement and penalty provisions for incorrect display of shapes and lights and serves as an enforcement mechanism when violations are noted.

One commenter expressed confusion regarding the use of the word “line” with regard to the vertical placement of lights as referenced in § 83.24 (Rule 24) and proposed the use of “axis” instead. Within the inland navigation rules the term “vertical line” is used throughout the lights section; whereas, “vertical axis” is only used with regard to sound signal configuration in 33 CFR 86 (Annex III). It is our belief that `line' is more easily understood than `axis' but we believe that the application of `axis' to sound signals is appropriate because during reduced visibility it would be difficult to ascertain if they were in “line” whereas the more generic “axis” may apply. For these reasons, changing the wording from “line” to “axis” in § 83.24 would not improve the rule.

We received one comment regarding the requirement in § 83.27(e)(ii) (Rule 27(e)) for small vessels engaged in diving operations to have a rigid replica flag with all-round visibility. The commenter pointed out that it is impossible for the rigid replica of the International Code flag “A” authorized by this rule to be visible from all-round as it is a two-dimensional flag. The commenter proposed that in order to make the rigid replica all-round visible, two intersecting rigid replicas would be more suitable. The Coast Guard has chosen not to adopt this recommendation at this time because to do so would be a deviation from the COLREGS. Additionally, the rule does not require all-round visibility but rather asks that measures be taken to ensure its all-round visibility. A subtle difference but we believe that the rule requires that the rigid replica not be placed where it might be blocked by the superstructure or other object. We do understand the potential for vessels approaching the rigid replica on a side angle to not be able to distinguish it and discern its meaning, but believe the rigid replica provision instead of a cloth flag is an attempt at ensuring other vessels are aware that the subject vessel is engaged in diving operations. Therefore, while we understand the commenter's concerns regarding the “all-round visibility” possible with a single rigid Code “A” flag, we will not adopt his recommendation at this point. We may, however, present the proposed alternative of intersecting rigid replicas at a future NAVSAC meeting.

Lastly, we received a comment requesting the Coast Guard to explicitly define what constitutes a “high speed craft” according to the Rules. We have chosen not to further define the term “high speed craft” in Part 83 because there is a reference in 33 CFR 84.01(b) (Annex I) which provides the definition and operational requirements for vessels to be considered high speed craft. The Coast Guard has chosen to insert clarifying language to ensure compliance with requirements in § 83.24(i) by towing vessels on the Mississippi River. We were informed that the point of reference (the Huey P. Long Bridge) was confusing because there are two such named bridges on the lower Mississippi River. As a result, we have inserted a mile marker reference to ensure compliance.

We are adopting without change all other proposed amendments found in the NPRM (August, 28, 2012, 77 FR 52176).

E. Technical changes

We have made several technical changes in this final rule to improve readability and correct typographical errors. In the NPRM, one of the references in § 83.25 to “white lights” used the word “while” instead of “white.” In the NPRM, references to “meter” in § 83.26(f)(1) and § 84.06(a)(2) should have used the plural “meters.” In the NPRM, § 83.27(f) contained a reference to Rule 30, but left out the standard parenthetical cross-reference to the appropriate CFR section. In the NPRM, § 84.07 (renumbered in this final rule as § 84.13) used an outdated address. We have made corrections to these sections in this final rule.

Prior to this rulemaking, 33 CFR part 86, subpart A—Whistles, contained Table 86.05 regarding sound signal intensity and range of audibility. The Table was followed by a note that read as follows: “The range of audibility in the table above is for information and is approximately the range at which a whistle may usually be heard on its forward axis in conditions of still air on board a vessel having average background noise level at the listening posts (taken to be 68 dB in the octave band centered on 250 Hz and 63 dB in the octave band centered on 500 Hz).

In practice the range at which a whistle may be heard is extremely variable and depends critically on weather conditions; the values given can be regarded as typical but under conditions of strong wind or high ambient noise level at the listening post the range may be much reduced.”

In the NPRM, we revised and relocated the Table so that it appears as Table C in § 86.01. However, in the NPRM, we inadvertently deleted the note. Accordingly, in this final rule, we have reinserted the information from the note. For purposes of readability, we have made minor adjustments to the language of the note, and we have relocated it to appear in the regulatory text at § 86.01(c).

V. Regulatory Analyses

We developed this rule after considering numerous statutes and executive orders related to rulemaking. Below, we summarize our analyses based on several of these statutes or executive orders.

A. Regulatory Planning and Review

Executive Orders (E.O.s) 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting regulatory flexibility and further requires agencies to adapt rules that are outdated or outmoded. This rule does that by removing contradictory language, expanding options for compliance, allowing for new technologies and removing outdated equipment from our regulations.

This final rule is not a “significant regulatory action” under section 3(f) of Executive Order 12866, as supplemented by E.O. 13563, and does not require an assessment of potential costs and benefits under section 6(a)(3) of E.O. 12866. The Office of Management and Budget (OMB) has not reviewed it under E.O. 12866. Nonetheless, we developed an analysis of the costs and benefits of the rule to ascertain its probable impacts on industry. A regulatory assessment follows:

As stated in section IV. Discussion of Comments and Changes of this preamble, this rule updates existing regulations to match those in the COLREGS, incorporates certain provisions suggested by NAVSAC, and adds language regarding federalism, based on President Obama's 2009 memorandum and E.O. 13132. These regulations fall under two categories: harmonizing and discretionary. Harmonizing changes include provisions associated with the Presidential memorandum and the COLREGS. Discretionary provisions are those recommended by NAVSAC.

Alternatives Considered

Alternative 1—No Action. We rejected this alternative, as this alternative would ensure that the current differences between the domestic and international navigation rules continue, creating potential navigational errors and potential for mishaps, and would not be consistent with the Coast Guard's commitment to tailor the inland navigation rules to conform with the COLREGS as much as practicable. The rule incorporates regulations that are less stringent than the current regulations while maintaining the benefits of the current regulations.

Alternative 2—Incorporation of burden-increasing NAVSAC recommendations. Alternative 2 would include all the changes in the rule and two additional changes recommended by NAVSAC. Those additional changes, which would increase the burden on the regulated community and expand the affected population, are as follows:

1. Lighting of gas pipelines (33 CFR 88.15). A 1991 NAVSAC resolution proposed lighting gas pipelines in a manner similar to that done with dredge pipelines as described in 33 CFR 88.15. However, the Department of Transportation's Pipeline and Hazardous Material Safety Administration has since published regulations affecting some of the gas pipelines that necessitated the original NAVSAC resolution. No comments were submitted regarding this alternative.

2. Requiring that vessels greater than 16 feet must carry the inland navigation rules booklet. This provision would expand the population of vessels that must carry a copy of the inland navigation rules from vessels 12 meters (approximately 39.37 feet) or more in length to all vessels more than 16 feet long. The Coast Guard chooses not to adopt this resolution for a number of reasons, one of which was the lack of quantifiable benefits to justify a high regulatory burden on recreational vessels. Requiring the carriage of the booklet will affect 6.5 million vessels within the “over 16ft to but less than 20 meters” category, at the cost of $23 a book.⁸ At that rate, the cost to implement this alternative will cost approximately $150 million. As stated in the preamble of this rule, we believe that education is a better method of prevention than requiring the carriage of the book, that enforcement will be challenging, and that it will be impractical for some to carry the book (particularly in open construction vessels). Given these reasons, we rejected this alternative.

⁸ This is a high estimate as the booklet can also be downloaded at http://www.navcen.uscg.gov/pdf/navRules/CIM16672_2D_NavRules_111123.pdf

Summary of the Rule

Vessels affected by this rule are those traveling on inland waters of the United States. There will be an additional cost for future WIG craft to install a light. There would not be additional costs or burden from the other harmonizing or discretionary provisions. A benefit of the harmonizing provisions is complying with the COLREGS and the Presidential memorandum. Both harmonizing and discretionary provisions also provide regulatory flexibility to certain vessels. Some of the discretionary changes may help to reduce risk of collision. A summary of the Regulatory Analysis is provided in Table 1.

Table 1—Summary of the Regulatory Analysis
Category | Summary (harmonization) | Summary (discretionary)
Affected population | All vessels traveling on inland waters Certain subgroups of vessels (refer to Table 3 for details) | All vessels traveling on inland waters. Certain subgroups of vessels (refer to Table 3 for details).
Costs | Costs: $112 annual $1,119 10-year total | Costs: $0.
Cost savings* (undiscounted) | Cost savings: $271,642 annual $2.72 million 10-year total
Un-quantified benefits | Compliance with the COLREGS and Presidential memo. Increased regulatory flexibility of regulations to certain vessels | Incorporation of NAVSAC and NBSAC recommendations. Increased regulatory flexibility of regulations to certain vessels. Reduction of risk of collision for certain vessels.
* Cost savings are uncertain. Our estimate illustrates the maximum cost savings that industry would receive.

Affected Population

This rule affects vessels on inland waters of the United States. Some of the provisions in this rule affect specific subgroups of these vessels. Population groups and subgroups affected by this rule are listed in Table 2.

⁹ Wing-in-Ground craft are low-flying vehicles that use air pressure between the wing of the craft and the Earth's surface to create lift. While it is capable of flight, given the low altitude in which a WIG craft flies, it was incorporated by IMO (and consequently, US regulations) as a vessel. For more information regarding WIG craft, please refer to the IMO Web site: http://www.imo.org/ourwork/safety/regulations/pages/wig.aspx and this Web site dedicated to the discussion of WIG craft: http://www.se-technology.com/wig/index.php.

Table 2—Breakdown of Affected Populations by Provision Type
Affected by harmonization provisions | Affected by discretionary provisions
Vessels on inland waters. | Vessels on inland waters.
Subgroups | Subgroups.
10: WIG craft.⁹ | N/A: Sailing vessels of less than 7 meters in length.
907: Vessels of 12 meters or more, but less than 20 meters in length. | N/A: Vessels under oars.
New high-speed vessels of 50 meters or more in length. | N/A: Fishing vessels (non-trawling).
N/A: Vessels less than 75 meters.
N/A: Vessels 20 meters or more in length.
N/A: Vessels equipped with radiotelephone alarms or radiotelegraph alarms.
N/A: Partially sunken vessels and objects being towed in combination.

Summary of the Impacts of This Rule on Affected Populations

Since the publication of the NPRM, there were seven main changes made to the proposed rules and several more clarifying edits. Table 3 characterizes these changes.

Table 3—Changes Since the NPRM
Final rule section | Changes from the NPRM | Impacts
83.07(b) | Removes “other electronic equipment from the phrase, “[p]roper use shall be made of radar and other electronic equipment if fitted and operational. . .” | No cost or impact. “[O]ther electronic equipment” was deemed redundant so its removal will not have an impact.
83.27, 83.30 | Includes Dredge pipelines. Vessels anchored, aground, and moored barges. Re-labels and moves requirements to new locations | No cost or impact since the location of the regulation changed, but not the requirements.
88.01, 88.03, 88.05, 88.07 | Reinserts Purpose & Applicability and Definitions sections for reference of section 88. Law enforcement lighting, public Safety Vessels | No cost or impact since the location of the regulation changed, but not the requirements.
83.24(f)(iii) | Removal of the “s” in “towing vessels” and the addition of a comma to the phrase “on both sides of the towing vessel, a sternlight. . .” | No impact because it is a clarifying change.
83.24(i) | Addition of mile-marker reference point in 83.24 for the Huey P. Long Bridge | No impact; provides more specificity.
83.27(d)(iv)(1)(C) and 83.27(d)(iv)(2)(B) | Remove “clear dark night” from the Dredge Pipeline Lighting requirements | Removes ambiguous language.
83.38d(i), d(ii), d(iv) | Removes expired exemptions | No impact. Change reduces unnecessary language.
83.01, 83.04, 83.08(a), 83.08(f)(ii), 83.08(f)(iii), 83.10(a), 83.11, 83.13(a), 83.18(e), 83.18(f)(ii), 83.19(c), 83.20(a), 83.22, 83.26(f), 86.01(g)(i), 84.02(i) | Insertion of clarifying references to specify Rules, Subpart, or Subchapter | Clarifying language to ensure mariners aware of appropriate references.
84.07, 84.08, 84.09, 84.10, 84.11, 84.12, 84.13, 84.14 | Section 84.07-84.13 in the NPRM moved to 84.13-84.20 respectively | No impact, necessary for IBR reference and to maintain alignment with COLREGs.

Besides the above changes, this rule modifies various sections of 33 CFR parts 83 through 88 to align domestic regulations with COLREGS, as much as practicable, and to incorporate NAVSAC recommendations. In Table 4, we provide a summary of the impacts, grouped by provision type and then affected population. Please refer to the regulatory text for specific changes.

¹⁰ By 1995, the Coast Guard considered telegraphs to be obsolete. http://www.gpo.gov/fdsys/pkg/FR-1995-01-27/pdf/95-2092.pdf.

Table 4—Summary of Impacts of the Proposed Rule on the Affected Populations
Section(s) and descriptions | Population | Costs and benefits
Harmonizing Provisions
Presidential Memo:
§ 83.01(a) | States that vessels must comply with this rule and that this rule preempts state and local laws | All vessels | Cost: $0. Vessels already comply with the federal regulations. There are no state laws that conflict with the federal regulations. Benefit: Clarifies federalism and adheres to the Presidential memo.
Alignment with COLREGS:
§ 83.03(a), § 83.03(n), § 83.18(f), § 83.23(c), § 83.31 | Provides operational and lighting requirements for WIG craft when operating on water | WIG craft | Cost: $1,119. To install an all-round red light for 1 vessel per year. Benefit: Conforms with COLREGS.
§ 83.08(a) | Adds the phrase to read as, “[Any action taken to avoid collision] shall be taken in accordance with the Rules of this part and shall. . . .” | All vessels | Cost: $0. All vessels must comply with existing regulations. There are no additional costs to the modified regulations in this part. Benefit: Conforms with COLREGS.
§ 83.33(a), Part 86, Subpart B | Removes the need for a bell | New vessels 12 meters or more in length, but less than 20 meters in length | Cost Savings: $299 per vessel, $2.72 million over 10 years. Benefits: More lenient requirement. Conforms with COLREGS.
§ 83.35(i) | If the vessel is equipped with a bell and the bell is used, the sound must be made at 2-minute intervals, which is the same as the existing sounding requirements | New vessels 12 meters or more in length, but less than 20 meters in length | Cost: $0. Applies to the use of existing bells. The use of bells is optional. Benefits: Reduces risk of collision if proper sound signal is used during reduced visibility. Conforms with COLREGS.
§ 84.19 | Allows an optional modification to the masthead lighting. Moves section to 33 CFR 84.19 | New high-speed vessels of 50 meters or more in length | Cost: $0. Does not require additional lights or modifications to existing lights. Benefits: Makes lighting requirements more lenient. Accommodates new vessels with novel designs. Conforms with COLREGS.
Part 86, Subpart A | Expands the acceptable range for fundamental frequencies. Vessels have the option of purchasing a greater range of whistles with different ranges than previously allowed. Reduces the required frequencies for vessels of 20 meters or more in length. | Vessels of less than 75 meters in length. Vessels of 20 meters or more in length. | Cost: $0. Does not require vessels to buy a new whistle. Benefits: less stringent standards allows for greater options of whistles for new vessels. Conforms with COLREGS.
33 CFR Part 87 | Radiotelegraph and radiotelephone alarms would no longer be accepted as approved distress calls Adds Digital Selective Calling, INMARSAT, and other mobile satellite service provider ship to Earth stations | Vessels equipped with radiotelephone alarms or radiotelegraph alarms. | Cost: $0. Radiotelegraphs are obsolete.¹⁰ Radiotelephones can be used, but not their alarms. Does not require equipment replacement. Has been effect since SOLAS V in 1999. Benefit: Updates the list of approved distress signal equipment to incorporate the latest technologies. Conforms with COLREGS.
Part 83.24(g) | Partially sunken vessels and objects being towed in combination | Partially submerged vessels and other objects being towed, in combination, would comply with lighting and shape requirements | Cost: $0. Lighting and shape requirements for partially submerged vessels or other objects are already outlined. This rule uses same requirements if towing more than one at a time. Benefits: Conforms with COLREGS.
§ 83.03(m)-(q), § 83.08(a), § 83.09, § 83.18(d), § 83.18(e), § 83.20(e), § 83.23(c)-(d), § 83.24(c)(1), § 83.35(i)-(j), Part 84—ANNEX I, § 85—ANNEX II, Part 86—ANNEX III, Part 87—ANNEX IV, Part 88—ANNEX V, § 88.03, § 88.05, § 88.09, § 88.11, § 88.12 | Renumbers or moves regulations without substantive changes in order to align text with that of COLREGS |  | Cost: $0. Changes include removal of headings, moving sections to other locations, or renumbering. Provides no additional requirements to industry. Benefits: Adherence to COLREGS formatting. Simplifies use between COLREGS and the CFR.
Discretionary Provisions
§ 83.25(d) | Allows the optional use of an all-round white light | Sailing vessels of less than 7 meters in length Vessels under oars | Cost: $0. Vessels can use additional lighting in the form of an all-round white light. Does not require the purchase of additional equipment. Benefits: Allows for more lighting options for better visibility. Incorporates NAVSAC and NBSAC recommendations.
§ 83.26(c) | Removes contradictory requirement. Provides clear standard | Fishing vessel (non-trawling) | Cost: $0. Removes contradictory statement. Benefit: Provides a clear standard.
83.27(d) | Remove “clear dark night” from the Dredge Pipeline Lighting requirements | Dredge Pipelines | Cost: $0. Removes confusing and unexplained stipulation. Benefits: Provides a clear standard.

Costs

As stated in section II. Basis and Purpose of this preamble, the primary purpose of this rule is to harmonize existing domestic law with current international law. The secondary purpose of this rule is to incorporate NAVSAC recommendations. We note that the discretionary NAVSAC recommendations do not require any additional cost, but rather add options and provides clarity to the existing rules.

Most of the provisions harmonize the CFR with the COLREGS by moving sections to different locations, renumbering, or reformatting.¹¹ There are six changes to the COLREGS that affect specific vessels. The first change incorporates WIG craft into the population of affected vessels. The second change removes the need for a bell, particularly for new vessels of 12 meters or more in length, but less than 20 meters. The third change modifies sound requirements for certain vessels. The fourth change modifies the formula for lighting requirements for high-speed vessels. The fifth significant COLREGS provision removes radiotelegraphs and radiotelephones as approved equipment for distress calls. The sixth and final change adds language about the combination of partially submerged vessels.

¹¹ International Maritime Organization. Convention On the International Regulations For Preventing Collisions at Sea, 2003 (Consolidated Edition 2003). www.imo.org.

A more detailed description of these changes is outlined in the following paragraphs. One other harmonizing change adds a preemption provision explaining that the codified regulation preempts state or local law within the same field. This provision complies with the Presidential memorandum and E.O. 13132, which requires executive agencies to ensure that its preemption statements have a sufficient legal basis and to make explicit in the codified regulation its intention to preempt state law, but does not change the compliance standards for vessels.

1. Wing-in-Ground (WIG) Craft. As stated in the preamble of the NPRM, there is ongoing prototype and feasibility testing in the United States for WIG crafts. We did not receive any comments regarding our cost or growth estimates, so our estimates remain the same.

Prototype versions may be tested on inland waters and some of the prototypes may successfully pass testing. Given the existence of prototype tests and the possibility of one being successful, we assume one new vessel operating on inland waters in any given year.⁵ The incremental cost for one WIG craft covers the addition of an all-round, high-intensity red light.

⁵ There has been some experimentation in developing WIG craft in some other countries, which would explain the additional language to incorporate WIG craft into regulation. Currently, there are only 3 in existence internationally. News regarding the Singaporean-flagged WIG craft: http://www.wigetworks.com/pdf/Press_Release-MV_Airfish_8_Christening_Ceremony.pdf. News regarding the two Korean WIG craft: http://articles.maritimepropulsion.com/article/Wing-in-Gound-Effect-Craft-e28093-Furure-is-Here-Say-Korean-Shipbuilders41727.aspx.

We calculated cost of this provision for WIG craft masthead light based on the estimated number of vessels (one vessel annually), multiplied by the cost of the light (one light required per vessel), and determined that this section of the rule would provide a total 10-year undiscounted cost of $1,119.⁶ Table 5 describes the costs in terms of per vessel, annual savings, and total undiscounted cost.

⁶ The average cost for an all-round red light is $112. The low cost is $70 http://www.go2marine.com/item/16246/series-40-all-round-navigation-lights-40004.html?WT.mc_id=gb1&utm_source=googlebase&utm_medium=productfeed&utm_campaign=googleshopping. The high cost is $153 http://shop.sailboatowners.com/prod.php?5910/Series+32+All-Round+LED+Lights.

Table 5—Per Vessel, Average, Recurring, Total 10-Year Undiscounted/Discounted Costs
Future vessel population (annual) | Per vessel cost | Total 10-year undiscounted cost | 7% Discounted 10-year cost | 3% Discounted 10-year cost
1 | $112 | $1,119 | $786 | $954
Note: numbers may not add up due to rounding.

Table 6 provides the breakdown of cost, both undiscounted and discounted (at 3 and 7 percent rates), over the 10-year period of analysis.

Table 6—Total 10-Year Undiscounted and Discounted Costs
Year | Undiscounted | 7% Discounted costs | 3% Discounted costs
Year 1 | $112 | $105 | $109
Year 2 | 112 | 98 | 105
Year 3 | 112 | 91 | 102
Year 4 | 112 | 85 | 99
Year 5 | 112 | 80 | 97
Year 6 | 112 | 75 | 94
Year 7 | 112 | 70 | 91
Year 8 | 112 | 65 | 88
Year 9 | 112 | 61 | 86
Year 10 | 112 | 57 | 83
Total | 1,119 | 786 | 954
Annualized | 112 | 112 | 112

2. New vessels of 12 meters or more, but less than 20 meters, in length. One of the provisions in the NPRM removed the need for bells on vessels of 12 meters or more, but less than 20 meters, in length. This means that existing vessels of such length have the option of removing their bells, but are not required to do so. There is no cost to existing vessels since the provision does not require additional equipment or changes, nor does it require the removal of existing equipment. We did not receive any comments regarding our assumptions or methodologies regarding the removal of these bells. Therefore, the average retail price of a bell ($299) represents the potential costs incurred by the owner should the owner choose to purchase and install a bell.7 8 The future growth rate is based on the build years of vessels listed in the Marine Information for Safety and Law Enforcement database from the years 2008 to 2011. During this time, 3,628 vessels were built in the 12-20 meter size range at an average rate of 907 annually (or 0.01 percent of the total population). The cost savings to industry is based on the growth rate, multiplied by the cost of a bell. This section of the rule will provide a 10-year total undiscounted cost savings of $2.72 million. Table 7 describes the savings in terms of per vessel, annual savings, and total undiscounted savings.

⁷ The cost to purchase an 8-inch bell is based on publically available information. Costs range between $109 and $489, making the average cost price $299. Date accessed April 2012. Low cost: http://www.westmarine.com/webapp/wcs/stores/servlet/ProductDisplay?productId=101003&catalogId=10001&langId=-1&storeId=11151&storeNum=50751&subdeptNum=50765&classNum=50766. High cost: http://www.wmjmarine.com/34437.html.

⁸ Based on subject matter experts including industry and Coast Guard, manufacturers of recreational vessels do not install bells on the vessels. In order to comply with current regulations, owners would purchase a bell 200 mm in diameter (approx. 8 inches) on the retail market and install it themselves.

Table 7—Per Vessel (Greater Than or Equal to 12 Meters, but Less Than 20 Meters, in Length), Recurring, and Total 10-Year Undiscounted Costs
Future vessel population (annual) | Per vessel cost savings | Annual cost savings | Total 10-year undiscounted cost savings
907 | $299 | $271,642 | $2,716,420
Note: numbers may not add due to rounding.

Table 8 provides the breakdown of cost savings, both undiscounted and discounted (at 3 and 7 percent rates), over the 10-year period of analysis.

Table 8—10-Year Undiscounted and Discounted Rates
Year | Undiscounted | 7% Discount rates | 3% Discount rates
Year 1 | $271,642 | $253,871 | $263,730
Year 2 | 271,642 | 237,263 | 256,049
Year 3 | 271,642 | 221,741 | 248,591
Year 4 | 271,642 | 207,234 | 241,350
Year 5 | 271,642 | 193,677 | 234,321
Year 6 | 271,642 | 181,007 | 227,496
Year 7 | 271,642 | 169,165 | 220,870
Year 8 | 271,642 | 158,098 | 214,437
Year 9 | 271,642 | 147,755 | 208,191
Year 10 | 271,642 | 138,089 | 202,127
Total | 2,716,420 | 1,907,899 | 2,317,161
Annualized | 271,642 | 271,642 | 271,642

3. Sound requirements based on the length of a vessel. Other modifications to sound requirements include the usage of a bell on certain vessels, and the relaxation of frequency standards for other vessels. As stated in the paragraphs dealing with cost savings, vessels of 12 meters or more in length are not required to have a bell. Should the owner choose to retain the bell and then decide to use it, the bell must be used at 2-minute intervals, which are the existing sounding requirements for a bell.

For whistles used on vessels of less than 75 meters in length, the acceptable range for frequencies would be expanded. This provision allows for the purchase of whistles that sound in the newly expanded ranges. The required sound-pressure levels for vessels of 20 meters or more in length would also be relaxed. Currently, whistles for these vessels need to project the appropriate sound-pressure levels measured at multiple frequency ranges. Our rule requires the whistle to obtain a single minimum sound-pressure level, which is based on the vessel's length, and is measured at only one frequency range.

There is no cost for this provision, as this does not require the replacement of an existing whistle since those would still be within the proposed standards. While there were comments pertaining to these requirements, there were no comments regarding the no-cost assumption for either the optional lighting requirement or the relaxation of the whistle requirement. Therefore, we maintain our no-cost assumption for the final rule.

4. High-speed Craft. The proposed lighting requirement replaces the established formula for placement of masthead lighting for new, high-speed vessels of 50 meters or greater in length with length-to-beam ratios greater than 3. This formula sets a lower minimum height for the main masthead light than the current U.S. formula. Vessels often operate with some angle of trim,⁹ which makes complying with the original formula onerous. The new formula accounts for trim, and aligns U.S. regulations with international standards. There were no comments regarding high-speed craft. Therefore, there is no change to our no-cost assumption in adhering to this requirement of the rule.

⁹ Angle of trim describes the orientation of a vessel with respect to the water. For example, zero trim occurs when the fore and aft drafts are the same.

5. Radiotelegraphs and Radiotelephones alarms and updates to approved emergency distress call equipment. Another COLREGS change involves the removal of radiotelegraph alarms and radiotelephone alarms as approved equipment for announcing distress except via Morse Code SOS. This type of equipment is currently obsolete and is no longer used by industry. Also, this change was made in SOLAS V in 1999. It was also instituted domestically by the Coast Guard since the 1990s and has been in effect since then.¹⁰ We did not receive comments regarding the use of this equipment, so our no-cost assumption will remain the same for the final rule.

¹⁰ http://www.gpo.gov/fdsys/pkg/FR-1995-01-27/pdf/95-2092.pdf.

6. Partially sunken vessels and objects being towed in combination. Currently, partially submerged vessels or objects being towed must follow certain lighting and shape requirements. This provision states that any combination of these two items being towed would also need to follow the same lighting and shape requirements. The intent of this change is to conform with the COLREGS. This provision was listed in the COLREGS, but was accidentally left out when the provision was transferred to our regulations. Combinations of towed objects may be lit the same as individual objects. This means there are no additional lighting requirements that exist for combinations that did not exist for individuals. There were no comments regarding this provision; therefore, no cost changes were made.

Other harmonizing changes to the CFR are non-substantive and simply align current regulations to match the formatting of the COLREGS (refer to Table 4 for the summary of these non-substantive changes). Overall, we estimate that the harmonizing provisions of this rule would have no cost to industry. We did not receive any comments to the contrary. However, we received comments regarding the removal or relocation of certain phrases and paragraphs. Changes as listed in Table 4 will have no cost or impact on owners complying with this rule. Therefore, our no-cost assumption remains the same for these harmonizing changes.

As noted above, there is a second category of changes, which are recommendations from NAVSAC. These changes represent discretionary actions on the part of the Coast Guard. The changes from NAVSAC allow for the use of additional equipment as a means of reducing risk of collision. Specifically, NAVSAC recommended the optional use of an all-round white light. As optional requirements, the Coast Guard anticipates that only those vessel owners/operators that foresee a benefit (safety or otherwise) greater than costs would install such a light. Also, because this change would not require the purchase of new equipment, it does not carry any costs. We did not receive any comment that materially alters our no-cost assumption for this provision.

The Coast Guard has chosen to insert clarifying language to ensure compliance with requirements in 83.24(i) by towing vessels on the Mississippi River. We were informed that the point of reference (the Huey P Long Bridge) was confusing because there are two such named bridges on the lower Mississippi River. As a result, we have inserted a mile marker reference to ensure compliance. There is no added cost in this clarification.

One final change is to correct an error in the CFR. Prior to this final rule, 33 CFR 83.26 contained two subparagraphs (c). This final rule clarifies that 33 CFR 83.26(b) applies to fishing vessels engaged in trawling, and 33 CFR 83.26(c) applies to fishing vessels engaged in fishing, other than trawling. Since this change will not require the purchase of additional equipment, but rather reduce confusion in regulation, this change would not require an additional cost burden to vessel owners.

Since the overall impact of this rule is to relax existing requirements on certain vessels, the only cost in this rule is the cost to install an all-round red light on future WIG craft. Since the remaining changes would not involve a change in compliance standards, there are no costs associated with the other requirements. We did not receive any comments that materially altered our assumptions; therefore, this no-cost assumption remains the same.

Benefits

Benefits from harmonizing current inland navigation rules with the COLREGS would be ensuring that the United States, as a signatory to the COLREGS, aligns its domestic regulations as close as practicable to the international standards. Publishing these regulations in the CFR provides greater awareness to the public of changes to the COLREGS and allows for greater public input in terms of application to inland navigation. Modifying the format and numbering of the regulations to match the formatting and numbering of the COLREGS allows for ease of use in terms of referencing either document for requirements.

The more significant COLREGS changes primarily expand current options available for vessels to use, particularly for those dealing with lighting and sound. As a result, vessel owners or operators would find it easier to comply with the new regulations than with the existing ones.

Specific benefits from the more significant COLREGS changes are as follows:

1. Wing-in-Ground (WIG) Craft. Adding WIG craft to the list of vessels conforms with the COLREGS. Given the possibility of future vessels, these changes provide WIG craft guidance on navigation and lighting.

2. New vessels of 12 meters or more, but less than 20 meters, in length. Vessels of this length no longer need a bell. Not having a bell provides greater regulatory flexibility. If the vessel has a bell, the vessel must use it properly. Proper usage of a bell reduces risk of collision if the proper sound signal is used during reduced visibility.

3. Sound requirements based on the length of a vessel. This change expands the acceptable range for fundamental frequencies, which provides less-stringent standards and allows for greater options of whistles for new vessels.

4. High-speed Craft. The regulation changes the lighting formula, making lighting requirements more lenient by accommodating new vessels with novel designs. This change conforms with the COLREGS.

5. Radiotelegraph and Radiotelephone alarms and updates to approved emergency distress call equipment. This change provides regulatory flexibility by updating the list of approved distress signal equipment to incorporate the latest technologies and remove outdated ones.

6. Partially sunken vessels and objects being towed in combination. Objects being towed must follow certain lighting and shape requirements. Towing multiple or combinations of such vessels and objects would also need to follow the same lighting and shape requirements. This conforms with the COLREGS.

NAVSAC Changes. This rule also includes benefits from incorporating NAVSAC- and NBSAC-recommended regulations. NAVSAC recommended the optional use of an all-round white light. Should owners opt to install an all-round white light to a vessel of less than 7 meters in length or a vessel under oars, the benefit would be greater visibility for that vessel. Greater visibility would reduce the risk of collision, particularly in the period between sunset and sunrise and during periods of reduced visibility. We received comments regarding the use of an all-round white light on a sailing vessel, to the effect that the vessel might be mistaken for a power-driven vessel.”

We counter that the lighting requirements are different and that the inherent benefits of additional lighting would be to the benefit of the sailing vessel. Therefore, our benefit assumption remains the same.

NAVSAC also recommended changes to navigation requirements, such as requiring vessels to use navigation technology for collision avoidance purposes if the equipment is already installed. Adopting the requirement to use already installed navigational technology for collision avoidance purposes reduces the risk of a collision.

Finally this rule fixes an erroneous and contradictory provision in the regulations. Removing the contradictory paragraph provides a clear standard that vessel owners can follow.

All of these recommendations provide greater regulatory flexibility as a means of reducing risk of collision.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

As discussed in the cost section of this regulatory analysis, the primary purpose of this rule is to align existing domestic law with international law, but there are also discretionary proposals included in this final rule. Compliance with both harmonizing and discretionary provisions will not require any additional burden to vessel owners, including small entities. Most harmonizing changes are made to use consistent formatting between the CFR and COLREGS, which in turn provides ease of use for owners. New vessels will have greater options in terms of lighting modifications, navigation equipment, and sound equipment.

Discretionary changes will also provide greater regulatory flexibility to small entities in terms of allowing the use of optional lighting and additional navigational equipment. We conclude that there would be no additional costs to small entities complying with this final rule. There would be a cost savings for vessel manufacturers who no longer need to install a bell for vessels of equal to or more than 12 meters, but less than 20 meters, in length. The only cost of the rule would be for one new WIG craft a year to install an all-round, high-intensity red light for about $112.⁵ Currently, we estimate there are no small entities affected by this rule that plan to operate new WIG crafts.

⁵ There has been some experimentation in developing WIG craft in some other countries, which would explain the additional language to incorporate WIG craft into the regulations. Currently, there are only 3 currently in existence internationally and none in the U.S. News regarding the Singaporean-flagged WIG craft: http://www.wigetworks.com/pdf/Press_Release-MV_Airfish_8_Christening_Ceremony.pdf. News regarding the two Korean WIG craft: http://articles.maritimepropulsion.com/article/Wing-in-Gound-Effect-Craft-e28093-Furure-is-Here-Say-Korean-Shipbuilders41727.aspx.

The Coast Guard certifies under 5 U.S.C. 605(b) that this final rule will not have a significant economic impact on a substantial number of small entities.

C. Assistance for Small Entities

Under section 213(a) of the Small Business Regulatory Enforcement Fairness Act of 1996 (Pub. L. 104-121), we offered to assist small entities in understanding this rule so that they could better evaluate its effects on them and participate in the rulemaking. If the rule affects your small business, organization, or governmental jurisdiction and you have questions concerning its provisions or options for compliance, please consult LCDR Megan Cull by phone at (202) 372-1565 or via email at Megan.L.Cull@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

Executive Order 13132 requires that in implementing policies that have federalism implications, agencies be guided by fundamental federalism principles. A rule has implications for federalism under Executive Order 13132, Federalism, if it has a substantial direct effect on the States, on the relationship between the national government, or on the distribution of power and responsibilities among the various levels of government. For actions that preempt state law, Executive Order 13121 requires that an agency construe a Federal Statute to preempt state law only where the statute contains an express preemption provision or there is some other clear evidence that Congress intended the preemption of State Law, or where the exercise of State authority conflicts with the exercise of Federal authority under the Federal statute. We have analyzed this rule under that Order and have determined that it is consistent with the fundamental federalism principles and preemption requirements described in Executive Order 13132. Our analysis is explained below.

It is well settled that States may not regulate in categories reserved for regulation by the Coast Guard. In 33 U.S.C. 2071, Congress specifically granted to the Secretary the authority to prescribe “inland navigation regulations applicable to all vessels upon the inland waters of the United States and technical annexes that are as consistent as possible with the respective annexes to the International Regulations.” As this rulemaking updates existing inland navigation regulations, it falls within the scope of authority Congress granted exclusively to the Secretary. Therefore, states and local governments may not regulate within the field of inland navigation. Accordingly, this rule is consistent with the principles of federalism and preemption requirements in Executive Order 13132.

F. Unfunded Mandates Reform Act

The Unfunded Mandates Reform Act of 1995, 2 U.S.C. 1531-1538, requires Federal agencies to assess the effects of their discretionary regulatory actions. In particular, that Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045 (“Protection of Children from Environmental Health Risks and Safety Risks”). This rule is not an economically significant rule and does not create an environmental risk to health or risk to safety that might disproportionately affect children.

J. Indian Tribal Governments

This rule does not have tribal implications under Executive Order 13175 (“Consultation and Coordination with Indian Tribal Governments”), because it does not have a substantial direct effect on one or more Indian tribes, on the relationship between the Federal Government and Indian tribes, or on the distribution of power and responsibilities between the Federal Government and Indian tribes.

K. Energy Effects

We have analyzed this rule under Executive Order 13211 (“Actions Concerning Regulations That Significantly Affect Energy Supply, Distribution, or Use”). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

M. Environment

We have analyzed this rule under Department of Homeland Security Management Directive 023-01 and Commandant Instruction M16475.lD, which guide the Coast Guard in complying with the National Environmental Policy Act of 1969, 42 U.S.C. 4321-4370f, and have concluded that this action is one of a category of actions that do not individually or cumulatively have a significant effect on the human environment. A final environmental analysis checklist supporting this determination is available in the docket where indicated under the ADDRESSES section of this preamble. This rule is categorically excluded under section 2.B.2, figure 2-1, paragraph (34)(i) of the Instruction and 6(a) of the Federal Register, Vol. 67, No. 141, Tuesday, July 23, 2002, page 48243. This rule involves regulations that are in aid of navigation, such as those concerning the rules of the road, COLREGS, bridge-to-bridge communications, vessel traffic services, and marking of navigation systems.

List of Subjects

33 CFR Part 83

Navigation (water), Waterways.

33 CFR Part 84

Incorporation by reference, Navigation (water), Waterways.

33 CFR Part 85

Fishing vessels, Navigation (water), Waterways.

33 CFR Part 86

Navigation (water), Waterways.

33 CFR Part 87

Navigation (water), Waterways.

33 CFR Part 88

Navigation (water), Waterways.

For the reasons discussed in the preamble, under the authority of 33 CFR 1.05-1, the Coast Guard amends 33 CFR Parts 83 through 88 as follows:

Title 33—Navigation and Navigable Waters

1. Revise part 83 to read as follows:

PART 83—RULES

Subpart A—General
Sec.
83.01 Application (Rule 1).
83.02 Responsibility (Rule 2).
83.03 General definitions (Rule 3).
Subpart B—Steering and Sailing Rules
Conduct of Vessels in Any Condition of Visibility
83.04 Application (Rule 4).
83.05 Look-out (Rule 5).
83.06 Safe speed (Rule 6).
83.07 Risk of collision (Rule 7).
83.08 Action to avoid collision (Rule 8).
83.09 Narrow channels (Rule 9).
83.10 Traffic separation schemes (Rule 10).
Conduct of Vessels in Sight of One Another
83.11 Application (Rule 11).
83.12 Sailing vessels (Rule 12).
83.13 Overtaking (Rule 13).
83.14 Head-on situation (Rule 14).
83.15 Crossing situation (Rule 15).
83.16 Action by give-way vessel (Rule 16).
83.17 Action by stand-on vessel (Rule 17).
83.18 Responsibilities between vessels (Rule 18).
Conduct of Vessels in Restricted Visibility
83.19 Conduct of vessels in restricted visibility (Rule 19).
Subpart C—Lights and Shapes
83.20 Application (Rule 20).
83.21 Definitions (Rule 21).
83.22 Visibility of lights (Rule 22).
83.23 Power-driven vessels underway (Rule 23).
83.24 Towing and pushing (Rule 24).
83.25 Sailing vessels underway and vessels under oars (Rule 25).
83.26 Fishing vessels (Rule 26).
83.27 Vessels not under command or restricted in their ability to maneuver (Rule 27).
83.28 [Reserved] (Rule 28).
83.29 Pilot vessels (Rule 29).
83.30 Anchored vessels, vessels aground and moored barges (Rule 30).
83.31 Seaplanes (Rule 31).
Subpart D—Sound and Light Signals
83.32 Definitions (Rule 32).
83.33 Equipment for sound signals (Rule 33).
83.34 Maneuvering and warning signals (Rule 34).
83.35 Sound signals in restricted visibility (Rule 35).
83.36 Signals to attract attention (Rule 36).
83.37 Distress signals (Rule 37).
Subpart E—Exemptions
83.38 Exemptions (Rule 38).

Authority: Sec. 303, Pub. L. 108-293, 118 Stat. 1042 (33 U.S.C. 2071); Department of Homeland Security Delegation No. 0170.1.

Subpart A—General

§ 83.01 Application (Rule 1).

(a) These Rules apply to all vessels upon the inland waters of the United States, and to vessels of the United States on the Canadian waters of the Great Lakes to the extent that there is no conflict with Canadian law. The regulations in this subchapter (subchapter E, 33 CFR parts 83 through 90) have preemptive effect over State or local regulation within the same field.

(b)(i) These Rules constitute special rules made by an appropriate authority within the meaning of Rule 1(b) of the International Regulations for Preventing Collisions at Sea, 1972, including annexes currently in force for the United States (“International Regulations”).

(ii) All vessels complying with the construction and equipment requirements of the International Regulations are considered to be in compliance with these Rules.

(c) Nothing in these Rules shall interfere with the operation of any special rules made by the Secretary of the Navy with respect to additional station or signal lights and shapes or whistle signals for ships of war and vessels proceeding under convoy, or by the Secretary with respect to additional station or signal lights and shapes for fishing vessels engaged in fishing as a fleet. These additional station or signal lights and shapes or whistle signals shall, so far as possible, be such that they cannot be mistaken for any light, shape, or signal authorized elsewhere under these Rules. Notice of such special rules shall be published in the Federal Register and, after the effective date specified in such notice, they shall have effect as if they were a part of these Rules.

(d) Traffic separation schemes may be established for the purpose of these Rules. Vessel traffic service regulations may be in effect in certain areas.

(e) Whenever the Secretary determines that a vessel or class of vessels of special construction or purpose cannot comply fully with the provisions of any of these Rules with respect to the number, position, range, or arc of visibility of lights or shapes, as well as to the disposition and characteristics of sound-signaling appliances, the vessel shall comply with such other provisions in regard to the number, position, range, or arc of visibility of lights or shapes, as well as to the disposition and characteristics of sound-signaling appliances, as the Secretary shall have determined to be the closest possible compliance with these Rules. The Secretary may issue a certificate of alternative compliance for a vessel or class of vessels specifying the closest possible compliance with these Rules. The Secretary of the Navy shall make these determinations and issue certificates of alternative compliance for vessels of the Navy.

(f) The Secretary may accept a certificate of alternative compliance issued by a contracting party to the International Regulations if it determines that the alternative compliance standards of the contracting party are substantially the same as those of the United States.

(g) The operator of each self-propelled vessel 12 meters or more in length shall carry, on board and maintain for ready reference, a copy of these Rules.

§ 83.02 Responsibility (Rule 2).

(a) Nothing in these Rules shall exonerate any vessel, or the owner, master, or crew thereof, from the consequences of any neglect to comply with these Rules or of the neglect of any precaution which may be required by the ordinary practice of seamen, or by the special circumstances of the case.

(b) In construing and complying with these Rules due regard shall be had to all dangers of navigation and collision and to any special circumstances, including the limitations of the vessels involved, which may make a departure from these Rules necessary to avoid immediate danger.

§ 83.03 General definitions (Rule 3).

For the purpose of these Rules and Subchapter E, except where the context otherwise requires:

(a) The word vessel includes every description of water craft, including non-displacement craft, WIG craft and seaplanes, used or capable of being used as a means of transportation on water.

(b) The term power-driven vessel means any vessel propelled by machinery.

(c) The term sailing vessel means any vessel under sail provided that propelling machinery, if fitted, is not being used.

(d) The term vessel engaged in fishing means any vessel fishing with nets, lines, trawls, or other fishing apparatus which restricts maneuverability, but does not include a vessel fishing with trolling lines or other fishing apparatus which do not restrict maneuverability.

(e) The word seaplane includes any aircraft designed to maneuver on the water.

(f) The term vessel not under command means a vessel which, through some exceptional circumstance, is unable to maneuver as required by these Rules and is therefore unable to keep out of the way of another vessel.

(g) The term vessel restricted in her ability to maneuver means a vessel which, from the nature of her work, is restricted in her ability to maneuver as required by these Rules and is therefore unable to keep out of the way of another vessel. The term vessels restricted in their ability to maneuver include, but are not limited to:

(i) A vessel engaged in laying, servicing, or picking up a navigation mark, submarine cable, or pipeline;

(ii) a vessel engaged in dredging, surveying, or underwater operations;

(iii) a vessel engaged in replenishment or transferring persons, provisions, or cargo while underway;

(iv) a vessel engaged in the launching or recovery of aircraft;

(v) a vessel engaged in mine clearance operations;

(vi) a vessel engaged in a towing operation such as severely restricts the towing vessel and her tow in their ability to deviate from their course.

(h) [Reserved]

(i) The word underway means that a vessel is not at anchor, or made fast to the shore, or aground.

(j) The words length and breadth of a vessel mean her length overall and greatest breadth.

(k) Vessels shall be deemed to be in sight of one another only when one can be observed visually from the other.

(l) The term restricted visibility means any condition in which visibility is restricted by fog, mist, falling snow, heavy rainstorms, sandstorms, or any other similar causes.

(m) The term Wing-In-Ground (WIG) craft means a multimodal craft which, in its main operational mode, flies in close proximity to the surface by utilizing surface-effect action.

(n) Western Rivers means the Mississippi River, its tributaries, South Pass, and Southwest Pass, to the navigational demarcation lines dividing the high seas from harbors, rivers, and other inland waters of the United States, and the Port Allen-Morgan City Alternate Route, and that part of the Atchafalaya River above its junction with the Port Allen-Morgan City Alternate Route including the Old River and the Red River.

(o) Great Lakes means the Great Lakes and their connecting and tributary waters including the Calumet River as far as the Thomas J. O'Brien Lock and Controlling Works (between mile 326 and 327), the Chicago River as far as the east side of the Ashland Avenue Bridge (between mile 321 and 322), and the Saint Lawrence River as far east as the lower exit of Saint Lambert Lock.

(p) Secretary means the Secretary of the Department in which the Coast Guard is operating.

(q) Inland Waters means the navigable waters of the United States shoreward of the navigational demarcation lines dividing the high seas from harbors, rivers, and other inland waters of the United States and the waters of the Great Lakes on the United States side of the International Boundary.

(r) Inland Rules or Rules means these Inland Navigational Rules and the annexes thereto, which govern the conduct of vessels and specify the lights, shapes, and sound signals that apply on inland waters.

(s) International Regulations means the International Regulations for Preventing Collisions at Sea, 1972, including annexes currently in force for the United States.

Subpart B—Steering and Sailing Rules

Conduct of Vessels in Any Condition of Visibility

§ 83.04 Application (Rule 4).

Rules 4 through 10 (§§ 83.04 through 83.10) apply in any condition of visibility.

§ 83.05 Look-out (Rule 5).

Every vessel shall at all times maintain a proper look-out by sight and hearing as well as by all available means appropriate in the prevailing circumstances and conditions so as to make a full appraisal of the situation and of the risk of collision.

§ 83.06 Safe speed (Rule 6).

Every vessel shall at all times proceed at a safe speed so that she can take proper and effective action to avoid collision and be stopped within a distance appropriate to the prevailing circumstances and conditions. In determining a safe speed the following factors shall be among those taken into account:

(a) By all vessels:

(i) The state of visibility;

(ii) The traffic density including concentration of fishing vessels or any other vessels;

(iii) The maneuverability of the vessel with special reference to stopping distance and turning ability in the prevailing conditions;

(iv) At night, the presence of background light such as from shores lights or from back scatter of her own lights;

(v) The state of wind, sea, and current, and the proximity of navigational hazards;

(vi) The draft in relation to the available depth of water.

(b) Additionally, by vessels with operational radar:

(i) The characteristics, efficiency and limitations of the radar equipment;

(ii) Any constraints imposed by the radar range scale in use;

(iii) The effect on radar detection of the sea state, weather, and other sources of interference;

(iv) The possibility that small vessels, ice and other floating objects may not be detected by radar at an adequate range;

(v) The number, location, and movement of vessels detected by radar;

(vi) The more exact assessment of the visibility that may be possible when radar is used to determine the range of vessels or other objects in the vicinity.

§ 83.07 Risk of collision (Rule 7).

(a) Every vessel shall use all available means appropriate to the prevailing circumstances and conditions to determine if risk of collision exists. If there is any doubt such risk shall be deemed to exist.

(b) Proper use shall be made of radar equipment if fitted and operational, including long-range scanning to obtain early warning of risk of collision and radar plotting or equivalent systematic observation of detected objects.

(c) Assumptions shall not be made on the basis of scanty information, especially scanty radar information.

(d) In determining if risk of collision exists the following considerations shall be among those taken into account:

(i) Such risk shall be deemed to exist if the compass bearing of an approaching vessel does not appreciably change.

(ii) Such risk may sometimes exist even when an appreciable bearing change is evident, particularly when approaching a very large vessel or a tow or when approaching a vessel at close range.

§ 83.08 Action to avoid collision (Rule 8).

(a) Any action taken to avoid collision shall be taken in accordance with the Rules of this subpart (Rules 4-19) (§§ 83.04 through 83.19) and shall, if the circumstances of the case admit, be positive, made in ample time and with due regard to the observance of good seamanship.

(b) Any alteration of course and/or speed to avoid collision shall, if the circumstances of the case admit, be large enough to be readily apparent to another vessel observing visually or by radar; a succession of small alterations of course and/or speed should be avoided.

(c) If there is sufficient sea room, alteration of course alone may be the most effective action to avoid a close-quarters situation provided that it is made in good time, is substantial and does not result in another close-quarters situation.

(d) Action taken to avoid collision with another vessel shall be such as to result in passing at a safe distance. The effectiveness of the action shall be carefully checked until the other vessel is finally past and clear.

(e) If necessary to avoid collision or allow more time to assess the situation, a vessel shall slacken her speed or take all way off by stopping or reversing her means of propulsion.

(f)(i) A vessel which, by any of these Rules, is required not to impede the passage or safe passage of another vessel shall, when required by the circumstances of the case, take early action to allow sufficient sea room for the safe passage of the other vessel.

(ii) A vessel required not to impede the passage or safe passage of another vessel is not relieved of this obligation if approaching the other vessel so as to involve risk of collision and shall, when taking action, have full regard to the action which may be required by the Rules of Subpart B (Rules 4-19).

(iii) A vessel the passage of which is not to be impeded remains fully obliged to comply with the Rules of Subpart B (Rules 4-19) when the two vessels are approaching one another so as to involve risk of collision.

§ 83.09 Narrow channels (Rule 9).

(a)(i) A vessel proceeding along the course of a narrow channel or fairway shall keep as near to the outer limit of the channel or fairway which lies on her starboard side as is safe and practicable.

(ii) Notwithstanding paragraph (a)(i) of this Rule and Rule 14(a) (§ 83.14(a)), a power-driven vessel operating in narrow channels or fairways on the Great Lakes, Western Rivers, or waters specified by the Secretary, and proceeding downbound with a following current shall have the right-of-way over an upbound vessel, shall propose the manner and place of passage, and shall initiate the maneuvering signals prescribed by Rule 34(a)(i) (§ 83.34(a)(i)), as appropriate. The vessel proceeding upbound against the current shall hold as necessary to permit safe passing.

(b) A vessel of less than 20 meters in length or a sailing vessel shall not impede the passage of a vessel that can safely navigate only within a narrow channel or fairway.

(c) A vessel engaged in fishing shall not impede the passage of any other vessel navigating within a narrow channel or fairway.

(d) A vessel shall not cross a narrow channel or fairway if such crossing impedes the passage of a vessel which can safely navigate only within that channel or fairway. The latter vessel shall use the danger signal prescribed in Rule 34(d) (§ 83.34(d)) if in doubt as to the intention of the crossing vessel.

(e)(i) In a narrow channel or fairway when overtaking, the power-driven vessel intending to overtake another power-driven vessel shall indicate her intention by sounding the appropriate signal prescribed in Rule 34(c) (§ 83.34(c)) and take steps to permit safe passing. The power-driven vessel being overtaken, if in agreement, shall sound the same signal and may, if specifically agreed to, take steps to permit safe passing. If in doubt she shall sound the danger signal prescribed in Rule 34(d) (§ 83.34(d)).

(ii) This Rule does not relieve the overtaking vessel of her obligation under Rule 13 (§ 83.13).

(f) A vessel nearing a bend or an area of a narrow channel or fairway where other vessels may be obscured by an intervening obstruction shall navigate with particular alertness and caution and shall sound the appropriate signal prescribed in Rule 34(e) (§ 83.34(e)).

(g) Any vessel shall, if the circumstances of the case admit, avoid anchoring in a narrow channel.

§ 83.10 Traffic separation schemes (Rule 10).

(a) This Rule applies to traffic separation schemes and does not relieve any vessel of her obligation under any other Rule in subchapter E.

(b) A vessel using a traffic separation scheme shall:

(i) Proceed in the appropriate traffic lane in the general direction of traffic flow for that lane;

(ii) So far as practicable keep clear of a traffic separation line or separation zone;

(iii) Normally join or leave a traffic lane at the termination of the lane, but when joining or leaving from either side shall do so at as small an angle to the general direction of traffic flow as practicable.

(c) A vessel shall, so far as practicable, avoid crossing traffic lanes but if obliged to do so shall cross on a heading as nearly as practicable at right angles to the general direction of traffic flow.

(d)(i) A vessel shall not use an inshore traffic zone when she can safely use the appropriate traffic lane within the adjacent traffic separation scheme. However, vessels of less than 20 meters in length, sailing vessels, and vessels engaged in fishing may use the inshore traffic zone.

(ii) Notwithstanding paragraph (d)(i) of this Rule, a vessel may use an inshore traffic zone when en route to or from a port, offshore installation or structure, pilot station, or any other place situated within the inshore traffic zone, or to avoid immediate danger.

(e) A vessel other than a crossing vessel or a vessel joining or leaving a lane shall not normally enter a separation zone or cross a separation line except:

(i) In cases of emergency to avoid immediate danger;

(ii) To engage in fishing within a separation zone.

(f) A vessel navigating in areas near the terminations of traffic separation schemes shall do so with particular caution.

(g) A vessel shall so far as practicable avoid anchoring in a traffic separation scheme or in areas near its terminations.

(h) A vessel not using a traffic separation scheme shall avoid it by as wide a margin as is practicable.

(i) A vessel engaged in fishing shall not impede the passage of any vessel following a traffic lane.

(j) A vessel of less than 20 meters in length or a sailing vessel shall not impede the safe passage of a power-driven vessel following a traffic lane.

(k) A vessel restricted in her ability to maneuver when engaged in an operation for the maintenance of safety of navigation in a traffic separation scheme is exempted from complying with this Rule to the extent necessary to carry out the operation.

(l) A vessel restricted in her ability to maneuver when engaged in an operation for the laying, servicing, or picking up of a submarine cable, within a traffic separation scheme, is exempted from complying with this Rule to the extent necessary to carry out the operation.

Conduct of Vessels in Sight of One Another

§ 83.11 Application (Rule 11).

Rules 11 through 18 (§§ 83.11 through 83.18) apply to vessels in sight of one another.

§ 83.12 Sailing vessels (Rule 12).

(a) When two sailing vessels are approaching one another, so as to involve risk of collision, one of them shall keep out of the way of the other as follows:

(i) When each has the wind on a different side, the vessel which has the wind on the port side shall keep out of the way of the other.

(ii) When both have the wind on the same side, the vessel which is to windward shall keep out of the way of the vessel which is to leeward.

(iii) If a vessel with the wind on the port side sees a vessel to windward and cannot determine with certainty whether the other vessel has the wind on the port or on the starboard side, she shall keep out of the way of the other.

(b) For the purpose of this Rule, the windward side shall be deemed to be the side opposite to that on which the mainsail is carried or, in the case of a square-rigged vessel, the side opposite to that on which the largest fore-and-aft sail is carried.

§ 83.13 Overtaking (Rule 13).

(a) Notwithstanding anything contained in Rules 4 through 18 (§§ 83.04 through 83.18), any vessel overtaking any other shall keep out of the way of the vessel being overtaken.

(b) A vessel shall be deemed to be overtaking when coming up with another vessel from a direction more than 22.5 degrees abaft her beam; that is, in such a position with reference to the vessel she is overtaking, that at night she would be able to see only the sternlight of that vessel but neither of her sidelights.

(c) When a vessel is in any doubt as to whether she is overtaking another, she shall assume that this is the case and act accordingly.

(d) Any subsequent alteration of the bearing between the two vessels shall not make the overtaking vessel a crossing vessel within the meaning of these Rules or relieve her of the duty of keeping clear of the overtaken vessel until she is finally past and clear.

§ 83.14 Head-on situation (Rule 14).

(a) Unless otherwise agreed, when two power-driven vessels are meeting on reciprocal or nearly reciprocal courses so as to involve risk of collision each shall alter her course to starboard so that each shall pass on the port side of the other.

(b) Such a situation shall be deemed to exist when a vessel sees the other ahead or nearly ahead and by night she could see the masthead lights of the other in a line or nearly in a line and/or both sidelights and by day she observes the corresponding aspect of the other vessel.

(c) When a vessel is in any doubt as to whether such a situation exists she shall assume that it does exist and act accordingly.

(d) Notwithstanding paragraph (a) of this Rule, a power-driven vessel operating on the Great Lakes, Western Rivers, or waters specified by the Secretary, and proceeding downbound with a following current shall have the right-of-way over an upbound vessel, shall propose the manner of passage, and shall initiate the maneuvering signals prescribed by Rule 34(a)(i) (§ 83.34(a)(i)), as appropriate.

§ 83.15 Crossing situation (Rule 15).

(a) When two power-driven vessels are crossing so as to involve risk of collision, the vessel which has the other on her starboard side shall keep out of the way and shall, if the circumstances of the case admit, avoid crossing ahead of the other vessel.

(b) Notwithstanding paragraph (a) of this Rule, on the Great Lakes, Western Rivers, or water specified by the Secretary, a power-driven vessel crossing a river shall keep out of the way of a power-driven vessel ascending or descending the river.

§ 83.16 Action by give-way vessel (Rule 16).

Every vessel which is directed to keep out of the way of another vessel shall, so far as possible, take early and substantial action to keep well clear.

§ 83.17 Action by stand-on vessel (Rule 17).

(a)(i) Where one of two vessels is to keep out of the way, the other shall keep her course and speed.

(ii) The latter vessel may, however, take action to avoid collision by her maneuver alone, as soon as it becomes apparent to her that the vessel required to keep out of the way is not taking appropriate action in compliance with these Rules.

(b) When, from any cause, the vessel required to keep her course and speed finds herself so close that collision cannot be avoided by the action of the give-way vessel alone, she shall take such action as will best aid to avoid collision.

(c) A power-driven vessel which takes action in a crossing situation in accordance with paragraph (a)(ii) of this Rule to avoid collision with another power-driven vessel shall, if the circumstances of the case admit, not alter course to port for a vessel on her own port side.

(d) This Rule does not relieve the give-way vessel of her obligation to keep out of the way.

§ 83.18 Responsibilities between vessels (Rule 18).

Except where Rules 9, 10, and 13 (§§ 83.09, 83.10, and 83.13) otherwise require:

(a) A power-driven vessel underway shall keep out of the way of:

(i) A vessel not under command;

(ii) A vessel restricted in her ability to maneuver;

(iii) A vessel engaged in fishing;

(iv) A sailing vessel.

(b) A sailing vessel underway shall keep out of the way of:

(i) A vessel not under command;

(ii) A vessel restricted in her ability to maneuver; and

(iii) A vessel engaged in fishing.

(c) A vessel engaged in fishing when underway shall, so far as possible, keep out of the way of:

(i) A vessel not under command; and

(ii) A vessel restricted in her ability to maneuver.

(d) [Reserved]

(e) A seaplane on the water shall, in general, keep well clear of all vessels and avoid impeding their navigation. In circumstances, however, where risk of collision exists, she shall comply with the Rules of this Subpart (Rules 4-19) (§§ 83.4 through 83.19); and

(f)(i) a WIG craft shall, when taking off, landing and in flight near the surface, keep well clear of all other vessels and avoid impeding their navigation; and

(ii) a WIG craft operating on the water surface shall comply with the Rules of this Subpart (Rules 4-19) (§§ 83.4 through 83.19) as a power-driven vessel.

Conduct of Vessels in Restricted Visibility

§ 83.19 Conduct of vessels in restricted visibility (Rule 19).

(a) This Rule applies to vessels not in sight of one another when navigating in or near an area of restricted visibility.

(b) Every vessel shall proceed at a safe speed adapted to the prevailing circumstances and conditions of restricted visibility. A power-driven vessel shall have her engines ready for immediate maneuver.

(c) Every vessel shall have due regard to the prevailing circumstances and conditions of restricted visibility when complying with Rules 4 through 10 (§§ 83.04 through 83.10).

(d) A vessel which detects by radar alone the presence of another vessel shall determine if a close-quarters situation is developing or risk of collision exists. If so, she shall take avoiding action in ample time, provided that when such action consists of an alteration of course, so far as possible the following shall be avoided:

(i) An alteration of course to port for a vessel forward of the beam, other than for a vessel being overtaken;

(ii) An alteration of course toward a vessel abeam or abaft the beam.

(e) Except where it has been determined that a risk of collision does not exist, every vessel which hears apparently forward of her beam the fog signal of another vessel, or which cannot avoid a close-quarters situation with another vessel forward of her beam, shall reduce her speed to the minimum at which she can be kept on course. She shall if necessary take all her way off and, in any event, navigate with extreme caution until danger of collision is over.

Subpart C—Lights and Shapes

§ 83.20 Application (Rule 20).

(a) Rules in this subpart (Rules 20-31) (§§ 83.20 through 83.31) shall be complied with in all weathers.

(b) The Rules concerning lights (§§ 83.20 through 83.31) shall be complied with from sunset to sunrise, and during such times no other lights shall be exhibited, except such lights as cannot be mistaken for the lights specified in these Rules or do not impair their visibility or distinctive character, or interfere with the keeping of a proper lookout.

(c) The lights prescribed by these Rules shall, if carried, also be exhibited from sunrise to sunset in restricted visibility and may be exhibited in all other circumstances when it is deemed necessary.

(d) The Rules concerning shapes shall be complied with by day.

(e) The lights and shapes specified in these Rules shall comply with the provisions of Annex I of these Rules (33 CFR part 84).

(f) A vessel's navigation lights and shapes may be lowered if necessary to pass under a bridge.

§ 83.21 Definitions (Rule 21).

(a) Masthead light means a white light placed over the fore and aft centerline of the vessel showing an unbroken light over an arc of the horizon of 225 degrees and so fixed as to show the light from right ahead to 22.5 degrees abaft the beam on either side of the vessel, except that on a vessel of less than 12 meters in length the masthead light shall be placed as nearly as practicable to the fore and aft centerline of the vessel.

(b) Sidelights mean a green light on the starboard side and a red light on the port side each showing an unbroken light over an arc of the horizon of 112.5 degrees and so fixed as to show the light from right ahead to 22.5 degrees abaft the beam on its respective side. On a vessel of less than 20 meters in length the side lights may be combined in one lantern carried on the fore and aft centerline of the vessel, except that on a vessel of less than 12 meters in length the sidelights when combined in one lantern shall be placed as nearly as practicable to the fore and aft centerline of the vessel.

(c) Sternlight means a white light placed as nearly as practicable at the stern showing an unbroken light over an arc of the horizon of 135 degrees and so fixed as to show the light 67.5 degrees from right aft on each side of the vessel.

(d) Towing light means a yellow light having the same characteristics as the “sternlight” defined in paragraph (c) of this Rule.

(e) All-round light means a light showing an unbroken light over an arc of the horizon of 360 degrees.

(f) Flashing light means a light flashing at regular intervals at a frequency of 120 flashes or more per minute.

(g) Special flashing light means a yellow light flashing at regular intervals at a frequency of 50 to 70 flashes per minute, placed as far forward and as nearly as practicable on the fore and aft centerline of the tow and showing an unbroken light over an arc of the horizon of not less than 180 degrees nor more than 225 degrees and so fixed as to show the light from right ahead to abeam and no more than 22.5 degrees abaft the beam on either side of the vessel.

§ 83.22 Visibility of lights (Rule 22).

The lights prescribed in these Rules (Subpart C) shall have an intensity as specified in Annex I to these Rules (33 CFR part 84), so as to be visible at the following minimum ranges:

(a) In a vessel of 50 meters or more in length:

(i) A masthead light, 6 miles;

(ii) A sidelight, 3 miles;

(iii) A sternlight, 3 miles;

(iv) A towing light, 3 miles;

(v) A white, red, green or yellow all-round light, 3 miles; and

(vi) A special flashing light, 2 miles.

(b) In a vessel of 12 meters or more in length but less than 50 meters in length:

(i) A masthead light, 5 miles; except that where the length of the vessel is less than 20 meters, 3 miles;

(ii) A sidelight, 2 miles;

(iii) A sternlight, 2 miles;

(iv) A towing light, 2 miles;

(v) A white, red, green or yellow all-round light, 2 miles; and

(vi) A special flashing light, 2 miles.

(c) In a vessel of less than 12 meters in length—

(i) A masthead light, 2 miles;

(ii) A sidelight, 1 mile;

(iii) A sternlight, 2 miles;

(iv) A towing light, 2 miles;

(iv) A white, red, green or yellow all-round light, 2 miles; and

(v) A special flashing light, 2 miles.

(d) In an inconspicuous, partly submerged vessel or objects being towed:

(i) A white all-round light, 3 miles.

(ii) [Reserved]

§ 83.23 Power-driven vessels underway (Rule 23).

(a) A power-driven vessel underway shall exhibit:

(i) A masthead light forward;

(ii) A second masthead light abaft of and higher than the forward one; except that a vessel of less than 50 meters in length shall not be obliged to exhibit such light but may do so;

(iii) Sidelights; and

(iv) A sternlight.

(b) An air-cushion vessel when operating in the non-displacement mode shall, in addition to the lights prescribed in paragraph (a) of this Rule, exhibit an all-round flashing yellow light where it can best be seen.

(c) A WIG craft only when taking off, landing and in flight near the surface shall, in addition to the lights prescribed in paragraph (a) of this Rule, exhibit a high intensity all-round flashing red light.

(d) A power-driven vessel of less than 12 meters in length may, in lieu of the lights prescribed in paragraph (a) of this Rule, exhibit an all-round white light and sidelights.

(e) A power-driven vessel when operating on the Great Lakes may carry an all-round white light in lieu of the second masthead light and sternlight prescribed in paragraph (a) of this Rule. The light shall be carried in the position of the second masthead light and be visible at the same minimum range.

§ 83.24 Towing and pushing (Rule 24).

(a) A power-driven vessel when towing astern shall exhibit:

(i) Instead of the light prescribed either in Rule 23(a)(i) or 23(a)(ii) (§§ 83.23(a)(i) and (ii)), two masthead lights in a vertical line. When the length of the tow, measuring from the stern of the towing vessel to the after end of the tow exceeds 200 meters, three such lights in a vertical line;

(ii) Sidelights;

(iii) A sternlight;

(iv) A towing light in a vertical line above the sternlight; and

(v) When the length of the tow exceeds 200 meters, a diamond shape where it can best be seen.

(b) When a pushing vessel and a vessel being pushed ahead are rigidly connected in a composite unit they shall be regarded as a power-driven vessel and exhibit the lights prescribed in Rule 23 (§ 83.23).

(c) A power-driven vessel when pushing ahead or towing alongside, except as required by paragraphs (b) and (i) of this Rule, shall exhibit:

(i) Instead of the light prescribed either in Rule 23(a)(i) or 23(a)(ii) (§ 83.23(a)(i) or (ii)), two masthead lights in a vertical line;

(ii) Sidelights; and

(iii) Two towing lights in a vertical line.

(d) A power-driven vessel to which paragraphs (a) or (c) of this Rule apply shall also comply with Rule 23(a) (i) and 23(a)(ii)(§ 83.23(a)(i) or (ii)).

(e) A vessel or object other than those referred to in paragraph (g) of this Rule being towed shall exhibit:

(i) Sidelights;

(ii) A sternlight; and

(iii) When the length of the tow exceeds 200 meters, a diamond shape where it can best be seen.

(f) Provided that any number of vessels being towed alongside or pushed in a group shall be lighted as one vessel, except as provided in paragraph (f)(iii) of this Rule.

(i) A vessel being pushed ahead, not being part of a composite unit, shall exhibit at the forward end, sidelights and a special flashing light.

(ii) A vessel being towed alongside shall exhibit a sternlight and at the forward end, sidelights and a special flashing light.

(iii) When vessels are towed alongside on both sides of the towing vessel, a sternlight shall be exhibited on the stern of the outboard vessel on each side of the towing vessel, and a single set of sidelights as far forward and as far outboard as is practicable, and a single special flashing light.

(g) An inconspicuous, partly submerged vessel or object, or combination of such vessels or objects being towed, shall exhibit:

(i) If it is less than 25 meters in breadth, one all-round white light at or near each end;

(ii) If it is 25 meters or more in breadth, four all-round white lights to mark its length and breadth;

(iii) If it exceeds 100 meters in length, additional all-round white lights between the lights prescribed in paragraphs (g)(i) and (ii) of this Rule so that the distance between the lights shall not exceed 100 meters: Provided, that any vessels or objects being towed alongside each other shall be lighted as one vessel or object;

(iv) A diamond shape at or near the aftermost extremity of the last vessel or object being towed; and

(v) The towing vessel may direct a searchlight in the direction of the tow to indicate its presence to an approaching vessel.

(h) Where from any sufficient cause it is impracticable for a vessel or object being towed to exhibit the lights prescribed in paragraph (e) or (g) of this Rule, all possible measures shall be taken to light the vessel or object towed or at least to indicate the presence of the unlighted vessel or object.

(i) Notwithstanding paragraph (c) of this Rule, on the Western Rivers (except below the Huey P. Long Bridge at mile 106.1 Above Head of Passes on the Mississippi River) and on waters specified by the Secretary, a power-driven vessel when pushing ahead or towing alongside, except as paragraph (b) of this Rule applies, shall exhibit:

(i) Sidelights; and

(ii) Two towing lights in a vertical line.

(j) Where from any sufficient cause it is impracticable for a vessel not normally engaged in towing operations to display the lights prescribed by paragraph (a), (c) or (i) of this Rule, such vessel shall not be required to exhibit those lights when engaged in towing another vessel in distress or otherwise in need of assistance. All possible measures shall be taken to indicate the nature of the relationship between the towing vessel and the vessel being assisted. The searchlight authorized by Rule 36 (§ 83.36) may be used to illuminate the tow.

§ 83.25 Sailing vessels underway and vessels under oars (Rule 25).

(a) A sailing vessel underway shall exhibit:

(i) Sidelights; and

(ii) A sternlight.

(b) In a sailing vessel of less than 20 meters in length the lights prescribed in paragraph (a) of this Rule may be combined in one lantern carried at or near the top of the mast where it can best be seen.

(c) A sailing vessel underway may, in addition to the lights prescribed in paragraph (a) of this Rule, exhibit at or near the top of the mast, where they can best be seen, two all-round lights in a vertical line, the upper being red and the lower green, but these lights shall not be exhibited in conjunction with the combined lantern permitted by paragraph (b) of this Rule.

(d)(i) A sailing vessel of less than 7 meters in length shall, if practicable, exhibit the lights prescribed in paragraph (a) or (b) of this Rule, but if she does not, she shall exhibit an all-round white light or have ready at hand an electric torch or lighted lantern showing a white light which shall be exhibited in sufficient time to prevent collision.

(ii) A vessel under oars may exhibit the lights prescribed in this Rule for sailing vessels, but if she does not, she shall exhibit an all-round white light or have ready at hand an electric torch or lighted lantern showing a white light which shall be exhibited in sufficient time to prevent collision.

(e) A vessel proceeding under sail when also being propelled by machinery shall exhibit forward, where it can best be seen, a conical shape, apex downward. A vessel of less than 12 meters in length is not required to exhibit this shape, but may do so.

§ 83.26 Fishing vessels (Rule 26).

(a) A vessel engaged in fishing, whether underway or at anchor, shall exhibit only the lights and shapes prescribed in this Rule.

(b) A vessel when engaged in trawling, by which is meant the dragging through the water of a dredge net or other apparatus used as a fishing appliance, shall exhibit:

(i) Two all-round lights in a vertical line, the upper being green and the lower white, or a shape consisting of two cones with their apexes together in a vertical line one above the other;

(ii) A masthead light abaft of and higher than the all-round green light; a vessel of less than 50 meters in length shall not be obliged to exhibit such a light but may do so;

(iii) When making way through the water, in addition to the lights prescribed in this paragraph, sidelights and a sternlight.

(c) A vessel engaged in fishing, other than trawling, shall exhibit:

(i) Two all-round lights in a vertical line, the upper being red and the lower white, or a shape consisting of two cones with apexes together in a vertical line one above the other;

(ii) When there is outlying gear extending more than 150 meters horizontally from the vessel, an all-round white light or a cone apex upward in the direction of the gear;

(iii) When making way through the water, in addition to the lights prescribed in this paragraph, sidelights and a sternlight.

(d) [Reserved]

(e) A vessel when not engaged in fishing shall not exhibit the lights or shapes prescribed in this Rule, but only those prescribed for a vessel of her length.

(f) Additional signals for fishing vessels fishing in close proximity:

(i) The lights mentioned herein shall be placed where they can best be seen. They shall be at least 0.9 meters apart but at a lower level than lights prescribed in this Rule. The lights shall be visible all around the horizon at a distance of at least 1 mile but at a lesser distance from the lights prescribed by paragraphs (a) through (c) of this Rule for fishing vessels.

(ii) Signals for trawlers.

(1) Vessels when engaged in trawling, whether using demersal or pelagic gear, may exhibit:

(A) When shooting their nets: Two white lights in a vertical line;

(B) When hauling their nets: One white light over one red light in a vertical line;

(C) When a net has come fast upon an obstruction: Two red lights in a vertical line.

(2) Each vessel engaged in pair trawling may exhibit:

(A) By night, a searchlight directed forward and in the direction of the other vessel of the pair;

(B) When shooting or hauling their nets or when their nets have come fast upon an obstruction, the lights prescribed in paragraph (a) of this Rule.

(iii) Signals for purse seiners.

(1) Vessels engaged in fishing with purse seine gear may exhibit two yellow lights in a vertical line. These lights shall flash alternately every second and with equal light and occultation duration. These lights may be exhibited only when the vessel is hampered by its fishing gear.

(2) [Reserved]

§ 83.27 Vessels not under command or restricted in their ability to maneuver (Rule 27).

(a) A vessel not under command shall exhibit:

(i) Two all-round red lights in a vertical line where they can best be seen;

(ii) Two balls or similar shapes in a vertical line where they can best be seen; and

(iii) When making way through the water, in addition to the lights prescribed in this paragraph, sidelights and a sternlight.

(b) A vessel restricted in her ability to maneuver, except a vessel engaged in mine clearance operations, shall exhibit:

(i) Three all-round lights in a vertical line where they can best be seen. The highest and lowest of these lights shall be red and the middle light shall be white;

(ii) Three shapes in a vertical line where they can best be seen. The highest and lowest of these shapes shall be balls and the middle one a diamond;

(iii) when making way through the water, a masthead light or lights, sidelights and a sternlight, in addition to the lights prescribed in paragraph (b)(i) of this Rule; and

(iv) When at anchor, in addition to the lights or shapes prescribed in paragraphs (b)(i) and (ii) of this Rule, the light, lights or shapes prescribed in Rule 30 (§ 83.30).

(c) A vessel engaged in a towing operation which severely restricts the towing vessel and her tow in their ability to deviate from their course shall, in addition to the lights or shapes prescribed in paragraphs (b)(i) and (ii) of this Rule, exhibit the lights or shapes prescribed in Rule 24 (§ 83.24).

(d) A vessel engaged in dredging or underwater operations, when restricted in her ability to maneuver, shall exhibit the lights and shapes prescribed in paragraphs (b)(i), (ii), and (iii) of this Rule and shall in addition, when an obstruction exists, exhibit:

(i) Two all-round red lights or two balls in a vertical line to indicate the side on which the obstruction exists;

(ii) Two all-round green lights or two diamonds in a vertical line to indicate the side on which another vessel may pass; and

(iii) When at anchor, the lights or shapes prescribed by this paragraph, instead of the lights or shape prescribed in Rule 30 (§ 83.30).

(iv) Dredge pipelines that are floating or supported on trestles shall display the following lights at night and in periods of restricted visibility.

(1) One row of yellow lights. The lights must be:

(A) Flashing 50 to 70 times per minute,

(B) Visible all around the horizon,

(C) Visible for at least 2 miles,

(D) Not less than 1 and not more than 3.5 meters above the water,

(E) Approximately equally spaced, and

(F) Not more than 10 meters apart where the pipeline crosses a navigable channel. Where the pipeline does not cross a navigable channel the lights must be sufficient in number to clearly show the pipeline's length and course.

(2) Two red lights at each end of the pipeline, including the ends in a channel where the pipeline is separated to allow vessels to pass (whether open or closed). The lights must be:

(A) Visible all around the horizon, and

(B) Visible for at least 2 miles, and

(C) One meter apart in a vertical line with the lower light at the same height above the water as the flashing yellow light.

(e) Whenever the size of a vessel engaged in diving operations makes it impracticable to exhibit all lights and shapes prescribed in paragraph (d) of this Rule, as appropriate, the following shall instead be exhibited:

(i) Three all-round lights in a vertical line where they can best be seen. The highest and lowest of these lights shall be red and the middle light shall be white;

(ii) A rigid replica of the International Code flag “A” not less than 1 meter in height. Measures shall be taken to insure its all-round visibility.

(f) A vessel engaged in mine clearance operations shall, in addition to the lights prescribed for a power-driven vessel in Rule 23 (§ 83.23) or to the lights or shape prescribed for a vessel at anchor in Rule 30 (§ 83.30), as appropriate, exhibit three all-round green lights or three balls. One of these lights or shapes shall be exhibited near the foremast head and one at each end of the fore yard. These lights or shapes indicate that it is dangerous for another vessel to approach within 1000 meters of the mine clearance vessel.

(g) A vessel of less than 12 meters in length, except when engaged in diving operations, is not required to exhibit the lights or shapes prescribed in this Rule.

(h) The signals prescribed in this Rule are not signals of vessels in distress and requiring assistance. Such signals are contained in Annex IV to these Rules (33 CFR part 87).

§ 83.28 [Reserved] (Rule 28).

§ 83.29 Pilot vessels (Rule 29).

(a) A vessel engaged on pilotage duty shall exhibit:

(i) At or near the masthead, two all-round lights in a vertical line, the upper being white and the lower red;

(ii) When underway, in addition, sidelights and a sternlight; and

(iii) When at anchor, in addition to the lights prescribed in paragraph (i) of this Rule, the anchor light, lights, or shape prescribed in Rule 30 (§ 83.30) for anchored vessels.

(b) A pilot vessel when not engaged on pilotage duty shall exhibit the lights or shapes prescribed for a vessel of her length.

§ 83.30 Vessels anchored, aground, and moored barges (Rule 30).

(a) A vessel at anchor shall exhibit where it can best be seen:

(i) In the fore part, an all-round white light or one ball;

(ii) At or near the stern and at a lower level than the light prescribed in paragraph (i) of this Rule, an all-round white light.

(b) A vessel of less than 50 meters in length may exhibit an all-round white light where it can best be seen instead of the lights prescribed in paragraph (a) of this Rule.

(c) A vessel at anchor may, and a vessel of 100 meters or more in length shall, also use the available working or equivalent lights to illuminate her decks.

(d) A vessel aground shall exhibit the lights prescribed in paragraph (a) or (b) of this Rule and in addition, if practicable, where they can best be seen:

(i) Two all-round red lights in a vertical line; and

(ii) Three balls in a vertical line.

(e) A vessel of less than 7 meters in length, when at anchor, not in or near a narrow channel, fairway, anchorage, or where other vessels normally navigate, shall not be required to exhibit the lights or shape prescribed in paragraphs (a) and (b) of this Rule.

(f) A vessel of less than 12 meters in length when aground shall not be required to exhibit the lights or shapes prescribed in paragraphs (d)(i) and (ii) of this Rule.

(g) A vessel of less than 20 meters in length, when at anchor in a special anchorage area designated by the Coast Guard, shall not be required to exhibit the anchor lights and shapes required by this Rule.

(h) The following barges shall display at night and if practicable in periods of restricted visibility the lights described in paragraph (i) of this Rule:

(i) Every barge projecting into a buoyed or restricted channel.

(ii) Every barge so moored that it reduces the available navigable width of any channel to less than 80 meters.

(iii) Barges moored in groups more than two barges wide or to a maximum width of over 25 meters.

(iv) Every barge not moored parallel to the bank or dock.

(i) Barges described in paragraph (h) of this Rule shall carry two unobstructed all-round white lights of an intensity to be visible for at least 1 nautical mile and meeting the technical requirements as prescribed in Annex I (33 CFR part 84).

(j) A barge or group of barges at anchor or made fast to one or more mooring buoys or other similar device, in lieu of the provisions of this Rule, may carry unobstructed all-round white lights of an intensity to be visible for at least 1 nautical mile that meet the requirements of Annex I (33 CFR part 84) and shall be arranged as follows:

(i) Any barge that projects from a group formation, shall be lighted on its outboard corners.

(ii) On a single barge moored in water where other vessels normally navigate on both sides of the barge, lights shall be placed to mark the corner extremities of the barge.

(iii) On barges moored in group formation, moored in water where other vessels normally navigate on both sides of the group, lights shall be placed to mark the corner extremities of the group.

(k) The following are exempt from the requirements of this Rule:

(i) A barge or group of barges moored in a slip or slough used primarily for mooring purposes.

(ii) A barge or group of barges moored behind a pierhead.

(iii) A barge less than 20 meters in length when moored in a special anchorage area designated in accordance with § 109.10 of this chapter.

(l) Barges moored in well-illuminated areas are exempt from the lighting requirements of this Rule. These areas are as follows:

Chicago Sanitary Ship Canal

(1) Mile 293.2 to 293.9

(2) Mile 295.2 to 296.1

(3) Mile 297.5 to 297.8

(4) Mile 298 to 298.2

(5) Mile 298.6 to 298.8

(6) Mile 299.3 to 299.4

(7) Mile 299.8 to 300.5

(8) Mile 303 to 303.2

(9) Mile 303.7 to 303.9

(10) Mile 305.7 to 305.8

(11) Mile 310.7 to 310.9

(12) Mile 311 to 311.2

(13) Mile 312.5 to 312.6

(14) Mile 313.8 to 314.2

(15) Mile 314.6

(16) Mile 314.8 to 315.3

(17) Mile 315.7 to 316

(18) Mile 316.8

(19) Mile 316.85 to 317.05

(20) Mile 317.5

(21) Mile 318.4 to 318.9

(22) Mile 318.7 to 318.8

(23) Mile 320 to 320.3

(24) Mile 320.6

(25) Mile 322.3 to 322.4

(26) Mile 322.8

(27) Mile 322.9 to 327.2

Calumet Sag Channel

(28) Mile 316.5

Little Calumet River

(29) Mile 321.2

(30) Mile 322.3

Calumet River

(31) Mile 328.5 to 328.7

(32) Mile 329.2 to 329.4

(33) Mile 330 west bank to 330.2

(34) Mile 331.4 to 331.6

(35) Mile 332.2 to 332.4

(36) Mile 332.6 to 332.8

Cumberland River

(37) Mile 126.8

(38) Mile 191

§ 83.31 Seaplanes (Rule 31).

Where it is impracticable for a seaplane or a WIG craft to exhibit lights and shapes of the characteristics or in the positions prescribed in the Rules of this subpart, she shall exhibit lights and shapes as closely similar in characteristics and position as is possible.

Subpart D—Sound and Light Signals

§ 83.32 Definitions (Rule 32).

(a) The word whistle means any sound signaling appliance capable of producing the prescribed blasts and which complies with specifications in Annex III to these Rules (33 CFR part 86).

(b) The term short blast means a blast of about 1 second's duration.

(c) The term prolonged blast means a blast of from 4 to 6 seconds' duration.

§ 83.33 Equipment for sound signals (Rule 33).

(a) A vessel of 12 meters or more in length shall be provided with a whistle, a vessel of 20 meters or more in length shall be provided with a bell in addition to a whistle, and a vessel of 100 meters or more in length shall, in addition, be provided with a gong, the tone and sound of which cannot be confused with that of the bell. The whistle, bell and gong shall comply with the specifications in Annex III to these Rules (33 CFR part 86). The bell or gong or both may be replaced by other equipment having the same respective sound characteristics, provided that manual sounding of the prescribed signals shall always be possible.

(b) A vessel of less than 12 meters in length shall not be obliged to carry the sound signaling appliances prescribed in paragraph (a) of this Rule but if she does not, she shall be provided with some other means of making an efficient sound signal.

§ 83.34 Maneuvering and warning signals (Rule 34).

(a) When power-driven vessels are in sight of one another and meeting or crossing at a distance within half a mile of each other, each vessel underway, when maneuvering as authorized or required by these Rules:

(i) Shall indicate that maneuver by the following signals on her whistle:

(1) One short blast to mean “I intend to leave you on my port side”;

(2) Two short blasts to mean “I intend to leave you on my starboard side”; and

(3) Three short blasts to mean “I am operating astern propulsion”.

(ii) Upon hearing the one or two blast signal of the other shall, if in agreement, sound the same whistle signal and take the steps necessary to effect a safe passing. If, however, from any cause, the vessel doubts the safety of the proposed maneuver, she shall sound the danger signal specified in paragraph (d) of this Rule and each vessel shall take appropriate precautionary action until a safe passing agreement is made.

(b) A vessel may supplement the whistle signals prescribed in paragraph (a) of this Rule by light signals:

(i) These signals shall have the following significance:

(1) One flash to mean “I intend to leave you on my port side”;

(2) Two flashes to mean “I intend to leave you on my starboard side”;

(3) Three flashes to mean “I am operating astern propulsion”;

(ii) The duration of each flash shall be about 1 second; and

(iii) The light used for this signal shall, if fitted, be one all-round white or yellow light, visible at a minimum range of 2 miles, synchronized with the whistle, and shall comply with the provisions of Annex I to these Rules (33 CFR part 84).

(c) When in sight of one another:

(i) A power-driven vessel intending to overtake another power-driven vessel shall indicate her intention by the following signals on her whistle:

(1) One short blast to mean “I intend to overtake you on your starboard side”;

(2) Two short blasts to mean “I intend to overtake you on your port side”; and

(ii) The power-driven vessel about to be overtaken shall, if in agreement, sound a similar sound signal. If in doubt she shall sound the danger signal prescribed in paragraph (d) of this Rule.

(d) When vessels in sight of one another are approaching each other and, from any cause, either vessel fails to understand the intentions or actions of the other, or is in doubt whether sufficient action is being taken by the other to avoid collision, the vessel in doubt shall immediately indicate such doubt by giving at least five short and rapid blasts on the whistle. This signal may be supplemented by a light signal of at least five short and rapid flashes.

(e) A vessel nearing a bend or an area of a channel or fairway where other vessels may be obscured by an intervening obstruction shall sound one prolonged blast. This signal shall be answered with a prolonged blast by any approaching vessel that may be within hearing around the bend or behind the intervening obstruction.

(f) If whistles are fitted on a vessel at a distance apart of more than 100 meters, one whistle only shall be used for giving maneuvering and warning signals.

(g) When a power-driven vessel is leaving a dock or berth, she shall sound one prolonged blast.

(h) A vessel that reaches agreement with another vessel in a head-on, crossing, or overtaking situation, as for example, by using the radiotelephone as prescribed by the Vessel Bridge-to-Bridge Radiotelephone Act (85 Stat. 164; 33 U.S.C. 1201 et seq.), is not obliged to sound the whistle signals prescribed by this Rule, but may do so. If agreement is not reached, then whistle signals shall be exchanged in a timely manner and shall prevail.

§ 83.35 Sound signals in restricted visibility (Rule 35).

In or near an area of restricted visibility, whether by day or night, the signals prescribed in this Rule shall be used as follows:

(a) A power-driven vessel making way through the water shall sound, at intervals of not more than 2 minutes, one prolonged blast.

(b) A power-driven vessel underway but stopped and making no way through the water shall sound, at intervals of not more than 2 minutes, two prolonged blasts in succession, with an interval of about 2 seconds between them.

(c) A vessel not under command; a vessel restricted in her ability to maneuver, whether underway or at anchor; a sailing vessel; a vessel engaged in fishing, whether underway or at anchor; and a vessel engaged in towing or pushing another vessel shall, instead of the signals prescribed in paragraphs (a) or (b) of this Rule, sound, at intervals of not more than 2 minutes, three blasts in succession, namely, one prolonged followed by two short blasts.

(d) [Reserved]

(e) A vessel towed or if more than one vessel is towed the last vessel of the tow, if manned, shall at intervals of not more than 2 minutes sound four blasts in succession, namely, one prolonged followed by three short blasts. When practicable, this signal shall be made immediately after the signal made by the towing vessel.

(f) When a pushing vessel and a vessel being pushed ahead are rigidly connected in a composite unit they shall be regarded as a power-driven vessel and shall give the signals prescribed in paragraphs (a) or (b) of this Rule.

(g) A vessel at anchor shall at intervals of not more than 1 minute ring the bell rapidly for about 5 seconds. In a vessel of 100 meters or more in length the bell shall be sounded in the forepart of the vessel and immediately after the ringing of the bell the gong shall be sounded rapidly for about 5 seconds in the after part of the vessel. A vessel at anchor may in addition sound three blasts in succession, namely, one short, one prolonged and one short blast, to give warning of her position and of the possibility of collision to an approaching vessel.

(h) A vessel aground shall give the bell signal and if required the gong signal prescribed in paragraph (f) of this Rule and shall, in addition, give three separate and distinct strokes on the bell immediately before and after the rapid ringing of the bell. A vessel aground may in addition sound an appropriate whistle signal.

(i) A vessel of 12 meters or more but less than 20 meters in length shall not be obliged to give the bell signals prescribed in paragraphs (g) and (h) of this Rule. However, if she does not, she shall make some other efficient sound signal at intervals of not more than 2 minutes.

(j) A vessel of less than 12 meters in length shall not be obliged to give the above-mentioned signals but, if she does not, shall make some other efficient sound signal at intervals of not more than 2 minutes.

(k) A pilot vessel when engaged on pilotage duty may, in addition to the signals prescribed in paragraphs (a), (b) or (g) of this Rule, sound an identity signal consisting of four short blasts.

(l) The following vessels shall not be required to sound signals as prescribed in paragraph (g) of this Rule when anchored in a special anchorage area designated by the Coast Guard:

(i) A vessel of less than 20 meters in length; and

(ii) A barge, canal boat, scow, or other nondescript craft.

§ 83.36 Signals to attract attention (Rule 36).

If necessary to attract the attention of another vessel, any vessel may make light or sound signals that cannot be mistaken for any signal authorized elsewhere in these Rules, or may direct the beam of her searchlight in the direction of the danger, in such a way as not to embarrass any vessel.

§ 83.37 Distress signals (Rule 37).

When a vessel is in distress and requires assistance she shall use or exhibit the signals described in Annex IV to these Rules (33 CFR part 87).

Subpart E—Exemptions

§ 83.38 Exemptions (Rule 38).

Any vessel or class of vessels, the keel of which was laid or which was at a corresponding stage of construction before December 24, 1980, provided that she complies with the requirements of—

(a) The Act of June 7, 1897 (30 Stat. 96), as amended (33 U.S.C. 154-232) for vessels navigating the waters subject to that statute;

(b) Section 4233 of the Revised Statutes (33 U.S.C. 301-356) for vessels navigating the waters subject to that statute;

(c) The Act of February 8, 1895 (28 Stat. 645), as amended (33 U.S.C. 241-295) for vessels navigating the waters subject to that statute; or

(d) Sections 3, 4, and 5 of the Act of April 25, 1940 (54 Stat. 163), as amended (46 U.S.C. 526b, c, and d) for motorboats navigating the waters subject to that statute, shall be exempted from compliance with the technical Annexes to these Rules (33 CFR parts 84 through 88) as follows:

(i) The installation of lights with ranges prescribed in Rule 22 (§ 83.22), vessels of less than 20 meters in length are permanently exempt.

(ii) The installation of lights with color specifications as prescribed in Annex I to these Rules (33 CFR part 84), vessels of less than 20 meters in length are permanently exempt.

(iii) The repositioning of lights as a result of conversion to metric units and rounding off measurement figures are permanently exempt.

(iv) The horizontal repositioning of masthead lights prescribed by Annex I to these Rules (33 CFR part 84), vessels of less than 150 meters in length are permanently exempt; and

(v) Power-driven vessels of 12 meters or more but less than 20 meters in length are permanently exempt from the provisions of Rule 23(a)(i) and (iv) (§ 83.23(a)(i) and (iv)) provided that, in place of these lights, the vessel exhibits a white light aft visible all-round the horizon.

2. Revise part 84 to read as follows:

PART 84—ANNEX I: POSITIONING AND TECHNICAL DETAILS OF LIGHTS AND SHAPES

Sec.
84.01 Definitions.
84.02 Vertical positioning and spacing of lights.
84.03 Horizontal positioning and spacing of lights.
84.04 Details of location of direction-indicating lights for fishing vessels, dredgers and vessels engaged in underwater operations.
84.05 Screens.
84.06 Shapes.
84.13 Color specification of lights.
84.14 Intensity of lights.
84.15 Horizontal sectors.
84.16 Vertical sectors.
84.17 Intensity of non-electric lights.
84.18 Maneuvering light.
84.19 High-speed craft.
84.20 Approval.

Authority: Sec. 303, Pub. L. 108-293, 118 Stat. 1042 (33 U.S.C. 2071); Department of Homeland Security Delegation No. 0170.1.

§ 84.01 Definitions.

(a) The term height above the hull means height above the uppermost continuous deck. This height shall be measured from the position vertically beneath the location of the light.

(b) High-speed craft means a craft capable of maximum speed in meters per second (m/s) equal to or exceeding: 3.7▽0.1667; where ▽=displacement corresponding to the design waterline (cubic meters).

Note to paragraph (b): The same formula expressed in pounds and knots is maximum speed in knots (kts) equal to exceeding 1.98 (lbs) 3.7▽0.1667; where ▽=displacement corresponding to design waterline in pounds.

(c) The term practical cut-off means, for vessels 20 meters or more in length, 12.5 percent of the minimum luminous intensity (Table 84.14(b)) corresponding to the greatest range of visibility for which the requirements of Annex I (33 CFR part 84) are met.

(d) The term Rule or Rules has the same meaning as in 33 CFR 83.03(r).

§ 84.02 Vertical positioning and spacing of lights.

(a) On a power-driven vessel of 20 meters or more in length the masthead lights shall be placed as follows:

(i) The forward masthead light, or if only one masthead light is carried, then that light, at a height above the hull of not less than 5 meters, and, if the breadth of the vessel exceeds 5 meters, then at a height above the hull not less than such breadth, so however that the light need not be placed at a greater height above the hull than 8 meters.

(ii) When two masthead lights are carried the after one shall be at least 2 meters vertically higher than the forward one.

(b) The vertical separation of the masthead lights of power-driven vessels shall be such that in all normal conditions of trim the after light will be seen over and separate from the forward light at a distance of 1000 meters from the stem when viewed from water level.

(c) The masthead light of a power-driven vessel of 12 meters but less than 20 meters in length shall be placed at a height above the gunwale of not less than 2.5 meters.

(d) The masthead light, or the all-round light described in Rule 23(d)(§ 83.23(d) of this chapter), of a power-driven vessel of less than 12 meters in length shall be carried at least one meter higher than the sidelights.

(e) One of the two or three masthead lights prescribed for a power-driven vessel when engaged in towing or pushing another vessel shall be placed in the same position as either the forward masthead light or the after masthead light, provided that the lowest after masthead light shall be at least 2 meters vertically higher than the highest forward masthead light.

(f)(i) The masthead light or lights prescribed in Rule 23(a) (§ 83.23(a) of this chapter) shall be so placed as to be above and clear of all other lights and obstructions except as described in paragraph (f)(ii) of this section.

(ii) When it is impracticable to carry the all-round lights prescribed in Rule 27(b)(i)(§ 83.27(b)(i) of this chapter) below the masthead lights, they may be carried above the after masthead light(s) or vertically in between the forward masthead light(s) and after masthead light(s), provided that in the latter case the requirement of § 84.03(d) shall be complied with.

(g) The sidelights of a power-driven vessel shall be placed at least one meter lower than the forward masthead light. They shall not be so low as to be interfered with by deck lights.

(h) [Reserved]

(i) When the Rules in this subchapter E prescribe two or three lights to be carried in a vertical line, they shall be spaced as follows:

(i) On a vessel of 20 meters in length or more such lights shall be spaced not less than 1 meter apart, and the lowest of these lights shall, except where a towing light is required, be placed at a height of not less than 4 meters above the hull.

(ii) On a vessel of less than 20 meters in length such lights shall be spaced not less than 1 meter apart and the lowest of these lights shall, except where a towing light is required, be placed at a height of not less than 2 meters above the gunwale.

(iii) When three lights are carried they shall be equally spaced.

(j) The lower of the two all-round lights prescribed for a vessel when engaged in fishing shall be a height above the sidelights not less than twice the distance between the two vertical lights.

(k) The forward anchor light prescribed in Rule 30(a)(i) (§ 83.30(a)(i)), when two are carried, shall not be less than 4.5 meters above the after one. On a vessel of 50 meters or more in length this forward anchor light shall be placed at a height or not less than 6 meters above the hull.

§ 84.03 Horizontal positioning and spacing of lights.

(a) Except as specified in paragraph (e) of this section, when two masthead lights are prescribed for a power-driven vessel, the horizontal distance between them must not be less than one quarter of the length of the vessel but need not be more than 50 meters. The forward light must be placed not more than one half of the length of the vessel from the stem.

(b) On a power-driven vessel of 20 meters or more in length the sidelights shall not be placed in front of the forward masthead lights. They shall be placed at or near the side of the vessel.

(c) When the lights prescribed in Rule 27(b)(i) (§ 83.27(b)(i) of this chapter) are placed vertically between the forward masthead light(s) and the after masthead light(s), these all-round lights shall be placed at a horizontal distance of not less than 2 meters from the fore and aft centerline of the vessel in the athwartship direction.

(d) When only one masthead light is prescribed for a power-driven vessel, this light must be exhibited forward of amidships. For a vessel of less than 20 meters in length, the vessel shall exhibit one masthead light as far forward as is practicable.

(e) On power-driven vessels 50 meters but less than 60 meters in length operated on the Western Rivers, and those waters specified in § 89.25 of this chapter, the horizontal distance between masthead lights shall not be less than 10 meters.

§ 84.04 Details of location of direction-indicating lights for fishing vessels, dredgers and vessels engaged in underwater operations.

(a) The light indicating the direction of the outlying gear from a vessel engaged in fishing as prescribed in Rule 26(c)(ii) (§ 83.26(c)(ii) of this chapter) shall be placed at a horizontal distance of not less than 2 meters and not more than 6 meters away from the two all-round red and white lights. This light shall be placed not higher than the all-round white light prescribed in Rule 26(c)(i)(§ 83.26(c)(i) of this chapter) and not lower than the sidelights.

(b) The lights and shapes on a vessel engaged in dredging or underwater operations to indicate the obstructed side and/or the side on which it is safe to pass, as prescribed in Rule 27(d)(i) and (ii)(§ 83.27(d)(i) and (ii) of this chapter), shall be placed at the maximum practical horizontal distance, but in no case less than 2 meters, from the lights or shapes prescribed in Rule 27(b)(i) and (ii)(§ 83.27(b)(i)and (ii) of this chapter). In no case shall the upper of these lights or shapes be at a greater height than the lower of the three lights or shapes prescribed in Rule 27(b)(i) and (ii) (§ 83.27(b)(i) and (ii) of this chapter).

§ 84.05 Screens.

(a) The sidelights of vessels of 20 meters or more in length shall be fitted with matt black inboard screens and meet the requirements of § 84.15. On vessels of less than 20 meters in length, the sidelights, if necessary to meet the requirements of § 84.15, shall be fitted with matt black inboard screens. With a combined lantern, using a single vertical filament and a very narrow division between the green and red sections, external screens need not be fitted.

(b) On power-driven vessels less than 12 meters in length constructed after July 31, 1983, the masthead light, or the all-round light described in Rule 23(d)(§ 83.23(d) of this chapter) shall be screened to prevent direct illumination of the vessel forward of the operator's position.

§ 84.06 Shapes.

(a) Shapes shall be black and of the following sizes:

(i) A ball shall have a diameter of not less than 0.6 meter.

(ii) A cone shall have a base diameter of not less than 0.6 meters and a height equal to its diameter.

(iii) A diamond shape shall consist of two cones (as defined in paragraph (a)(ii) of this section) having a common base.

(b) The vertical distance between shapes shall be at least 1.5 meters.

(c) In a vessel of less than 20 meters in length shapes of lesser dimensions but commensurate with the size of the vessel may be used and the distance apart may be correspondingly reduced.

§ 84.13 Color specification of lights.

(a) The chromaticity of all navigation lights shall conform to the following standards, which lie within the boundaries of the area of the diagram specified for each color by the International Commission on Illumination (CIE), in the “Colors of Light Signals”, which is incorporated by reference. It is Publication CIE No. 2.2. (TC-1.6), 1975, and is available from the Illumination Engineering Society, 345 East 47th Street, New York, NY 10017 and is available for inspection at the Coast Guard, Shore Infrastructure Logistics Center, Aids to Navigation and Marine Environmental Response Product Line (CG-SILC-ATON/MER), 2703 Martin Luther King, Jr. Ave, Mailstop 7714, Washington, DC 20593-7714. It is also available for inspection at the National Archives and Records Administration (NARA). For information on the availability of this material at NARA, call 202-741-6030, or go to: http://www.archives.gov/federal_register/code_of_federal_regulations/ibr_locations.html. This incorporation by reference was approved by the Director of the Federal Register.

(b) The boundaries of the area for each color are given by indicating the corner co-ordinates, which are as follows:

(i) White:

x 0.525 0.525 0.452 0.310 0.310 0.443

y 0.382 0.440 0.440 0.348 0.283 0.382

(ii) Green:

x 0.028 0.009 0.300 0.203

y 0.385 0.723 0.511 0.356

(iii) Red:

x 0.680 0.660 0.735 0.721

y 0.320 0.320 0.265 0.259

(iv) Yellow:

x 0.612 0.618 0.575 0.575

y 0.382 0.382 0.425 0.406

§ 84.14 Intensity of lights.

(a) The minimum luminous intensity of lights shall be calculated by using the formula:

I = 3.43 × 10⁶ × T × D² × K−D

Where:

I is luminous intensity in candelas under service conditions,

T is threshold factor 2 × 10⁻⁷lux,

D is range of visibility (luminous range) of the light in nautical miles,

K is atmospheric transmissivity. For prescribed lights the value of K shall be 0.8, corresponding to a meteorological visibility of approximately 13 nautical miles.

(b) A selection of figures derived from the formula is given in the following table (Table 84.14(b)):

Table 84.14(b)
Range of visibility (luminous range) of light in nautical miles D | Minimum luminous intensity of light in candelas for K = 0.8 I
1 | 0.9
2 | 4.3
3 | 12
4 | 27
5 | 52
6 | 94

§ 84.15 Horizontal sectors.

(a)(i) In the forward direction, sidelights as fitted on the vessel shall show the minimum required intensities. The intensities shall decrease to reach practical cut-off between 1 and 3 degrees outside the prescribed sectors.

(ii) For sternlights and masthead lights and at 22.5 degrees abaft the beam for sidelights, the minimum required intensities shall be maintained over the arc of the horizon up to 5 degrees within the limits of the sectors prescribed in Rule 21 (§ 83.21 of this chapter). From 5 degrees within the prescribed sectors the intensity may decrease by 50 percent up to the prescribed limits; it shall decrease steadily to reach practical cut-off at not more than 5 degrees outside the prescribed sectors.

(b) All-round lights shall be so located as not to be obscured by masts, topmasts or structures within angular sectors of more than 6 degrees, except anchor lights prescribed in Rule 30 (§ 83.30 of this chapter), which need not be placed at an impracticable height above the hull, and the all-round white light described in Rule 23(e) (§ 83.23(e) of this chapter), which may not be obscured at all.

(c) If it is impracticable to comply with paragraph (b) of this section by exhibiting only one all-round light, two all-round lights shall be used suitably positioned or screened to appear, as far as practicable, as one light at a minimum distance of one nautical mile.

Note to paragraph (c): Two unscreened all-round lights that are 1.28 meters apart or less will appear as one light to the naked eye at a distance of one nautical mile.

§ 84.16 Vertical sectors.

(a) The vertical sectors of electric lights as fitted, with the exception of lights on sailing vessels underway and on unmanned barges, shall ensure that:

(i) At least the required minimum intensity is maintained at all angles from 5 degrees above to 5 degrees below the horizontal;

(ii) At least 60 percent of the required minimum intensity is maintained from 7.5 degrees above to 7.5 degrees below the horizontal.

(b) In the case of sailing vessels underway, the vertical sectors of electric lights, as fitted, shall ensure that:

(i) At least the required minimum intensity is maintained at all angles from 5 degrees above to 5 degrees below the horizontal;

(ii) At least 50 percent of the required minimum intensity is maintained from 25 degrees above to 25 degrees below the horizontal.

(c) In the case of unmanned barges the minimum required intensity of electric lights as fitted shall be maintained on the horizontal.

(d) In the case of lights other than electric lights these specifications shall be met as closely as possible.

§ 84.17 Intensity of non-electric lights.

Non-electric lights shall so far as practicable comply with the minimum intensities, as specified in the Table 84.14(b).

§ 84.18 Maneuvering light.

Notwithstanding the provisions of § 84.02(f), the maneuvering light described in Rule 34(b)(§ 83.34(b) of this chapter) shall be placed approximately in the same fore and aft vertical plane as the masthead light or lights and, where practicable, at a minimum height of one-half meter vertically above the forward masthead light, provided that it shall be carried not less than one-half meter vertically above or below the after masthead light. On a vessel where only one masthead light is carried the maneuvering light, if fitted, shall be carried where it can best be seen, not less than one-half meter vertically apart from the masthead light.

§ 84.19 High-speed craft.

(a) The masthead light of high-speed craft may be placed at a height related to the breadth of the craft lower than that prescribed in § 84.02(a)(i), provided that the base angle of the isosceles triangle formed by the sidelights and masthead light, when seen in end elevation is not less than 27°.

(b) On high-speed craft of 50 meters or more in length, the vertical separation between foremast and mainmast light of 4.5 meters required by § 84.02(k) may be modified provided that such distance shall not be less than the value determined by the following formula:

Where:

y is the height of the mainmast light above the foremast light in meters;

a is the height of the foremast light above the water surface in service condition in meters;

Ψ is the trim in service condition in degrees;

C is the horizontal separation of masthead lights in meters.

Note to § 84.19: Refer to the International Code of Safety for High-Speed Craft, 1994 and the International Code of Safety for High-Speed Craft, 2000.

§ 84.20 Approval.

The construction of lights and shapes and the installation of lights on board the vessel must satisfy the Commandant, U.S. Coast Guard.

PART 85—[REMOVED AND RESERVED]

3. Part 85 is removed and reserved.

4. Revise part 86 to read as follows:

PART 86—ANNEX III: TECHNICAL DETAILS OF SOUND SIGNAL APPLIANCES

Sec.
86.01 Whistles.
86.02 Bell or Gong.
86.03 Approval. [Reserved]

Authority: Sec. 303, Pub. L. 108-293, 118 Stat. 1042 (33 U.S.C. 2071); Department of Homeland Security Delegation No. 0170.1.

§ 86.01 Whistles.

(a) Frequencies and range of audibility. The fundamental frequency of the signal shall lie within the range 70-700 Hz. The range of audibility of the signal from a whistle shall be determined by those frequencies, which may include the fundamental and/or one or more higher frequencies, which lie within the range 180-700 Hz (+/−1%) for a vessel of 20 meters or more in length, or 180-2100 Hz (+/−1%) for a vessel of less than 20 meters in length and which provide the sound pressure levels specified in paragraph (c) of this section.

(b) Limits of fundamental frequencies. To ensure a wide variety of whistle characteristics, the fundamental frequency of a whistle shall be between the following limits:

(i) 70-200 Hz, for a vessel 200 meters or more in length.

(ii) 130-350 Hz, for a vessel 75 meters but less than 200 meters in length.

(iii) 250-700 Hz, for a vessel less than 75 meters in length.

(c) Sound signal intensity and range of audibility.

A whistle fitted in a vessel shall provide, in the direction of maximum intensity of the whistle and at a distance of 1 meter from it, a sound pressure level in at least one ⅓rd-octave band within the range of frequencies 180-700 Hz (+/−1%) for a vessel of 20 meters or more in length, or 180-2100 Hz (+/−1%) for a vessel of less than 20 meters in length, of not less than the appropriate figure given in Table 86.01(c) of this section. The range of audibility in Table 86.01(c) is the approximate range at which a whistle may be heard on its forward axis with 90% probability in conditions of still air on board a vessel having average background noise level at the listening posts (taken to be 68 dB in the octave band centered on 250 Hz and 63 dB in the octave band centered on 500 Hz). It is shown for information purposes only. In practice, the range at which a whistle may be heard is extremely variable and depends critically on weather conditions; the values given can be regarded as typical but under conditions of strong wind or high ambient noise level at the listening post the range may be reduced.

Table 86.01(c)
Length of vessel in meters | ⅓rd-octave band level at 1 meter in dB referred to 2 × 10⁻⁵N/m² | Audibility range in nautical miles
200 or more | 143 | 2
75 but less than 200 | 138 | 1.5
20 but less than 75 | 130 | 1
Less than 20 | ¹ 120 ² 115 ³ 111 | 0.5
¹ When the measured frequencies lie within the range 180-450 Hz.
² When the measured frequencies lie within the range 450-800 Hz.
³ When the measured frequencies lie within the range 800-2100 Hz.

(d) Directional properties. The sound pressure level of a directional whistle shall be not more than 4 dB below the sound pressure level, specified in paragraph (c) of this section, in any direction in the horizontal plane within ±45 degrees of the forward axis. The sound pressure level of the whistle in any other direction in the horizontal plane shall not be more than 10 dB less than the sound pressure level specified for the forward axis, so that the range of audibility in any direction will be at least half the range required on the forward axis. The sound pressure level shall be measured in that one ⅓rd-octave band which determines the audibility range.

(e) Positioning of whistles. (i) When a directional whistle is to be used as the only whistle on the vessel and is permanently installed, it shall be installed with its forward axis directed forward.

(ii) A whistle shall be placed as high as practicable on a vessel, in order to reduce interception of the emitted sound by obstructions and also to minimize hearing damage risk to personnel. The sound pressure level of the vessel's own signal at listening posts shall not exceed 110 dB(A) and so far as practicable should not exceed 100 dB(A).

(f) Fitting of more than one whistle. If whistles are fitted at a distance apart of more than 100 meters, they shall not be sounded simultaneously.

(g) Combined whistle systems. (i) A combined whistle system is a number of whistles (sound emitting sources) operated together. For the purposes of the Rules of Subchapter E a combined whistle system is to be regarded as a single whistle.

(ii) The whistles of a combined system shall:

(1) Be located at a distance apart of not more than 100 meters;

(2) Be sounded simultaneously;

(3) Each have a fundamental frequency different from those of the others by at least 10 Hz; and

(4) Have a tonal characteristic appropriate for the length of vessel which shall be evidenced by at least two-thirds of the whistles in the combined system having fundamental frequencies falling within the limits prescribed in paragraph (b) of this section, or if there are only two whistles in the combined system, by the higher fundamental frequency falling within the limits prescribed in paragraph (b) of this section.

Note to paragraph (g): If, due to the presence of obstructions, the sound field of a single whistle or of one of the whistles referred to in paragraph (f) of this section is likely to have a zone of greatly reduced signal level, a combined whistle system should be fitted so as to overcome this reduction.

(h) Towing vessel whistles. A power-driven vessel normally engaged in pushing ahead or towing alongside may, at all times, use a whistle whose characteristic falls within the limits prescribed by paragraph (b) of this section for the longest customary composite length of the vessel and its tow.

§ 86.02 Bell or gong.

(a) Intensity of signal. A bell or gong, or other device having similar sound characteristics shall produce a sound pressure level of not less than 110 dB at 1 meter.

(b) Construction. Bells and gongs shall be made of corrosion-resistant material and designed to give clear tone. The diameter of the mouth of the bell shall be not less than 300 mm for vessels of 20 meters or more in length. Where practicable, a power-driven bell striker is recommended to ensure constant force but manual operation shall be possible. The mass of the striker shall be not less than 3 percent of the mass of the bell.

§ 86.03 Approval. [Reserved]

5. Revise part 87 to read as follows

PART 87—ANNEX IV: DISTRESS SIGNALS

Sec.
87.01 Need of assistance.
87.02 Exclusive use.
87.03 Supplemental signals.

Authority: Sec. 303, Pub. L. 108-293, 118 Stat. 1042 (33 U.S.C. 2071); Department of Homeland Security Delegation No. 0170.1.

§ 87.01 Need of assistance.

The following signals, used or exhibited either together or separately, indicate distress and need of assistance:

(a) A gun or other explosive signal fired at intervals of about a minute;

(b) A continuous sounding with any fog-signaling apparatus;

(c) Rockets or shells, throwing red stars fired one at a time at short intervals;

(d) A signal made by any method consisting of the group . . . - - - . . . (SOS) in the Morse Code;

(e) A signal sent by radiotelephony consisting of the spoken word “Mayday”;

(f) The International Code Signal of distress indicated by N.C.;

(g) A signal consisting of a square flag having above or below it a ball or anything resembling a ball;

(h) Flames on the vessel (as from a burning tar barrel, oil barrel, etc.);

(i) A rocket parachute flare or a hand flare showing a red light;

(j) A smoke signal giving off orange-colored smoke;

(k) Slowly and repeatedly raising and lowering arms outstretched to each side;

(l) A distress alert by means of digital selective calling (DSC) transmitted on:

(i) VHF channel 70, or

(ii) MF/HF on the frequencies 2187.5 kHz, 8414.5 kHz, 4207.5 kHz, 6312 kHz, 12577 kHz or 16804.5 kHz;

(m) A ship-to-shore distress alert transmitted by the ship's Inmarsat or other mobile satellite service provider ship earth station;

(n) Signals transmitted by emergency position-indicating radio beacons;

(o) Signals transmitted by radiocommunication systems, including survival craft radar transponders meeting the requirements of 47 CFR 80.1095; and

(p) A high intensity white light flashing at regular intervals from 50 to 70 times per minute.

§ 87.02 Exclusive use.

The use or exhibition of any of the foregoing signals except for the purpose of indicating distress and need of assistance and the use of other signals which may be confused with any of the above signals is prohibited.

§ 87.03 Supplemental signals.

Attention is drawn to the relevant sections of the International Code of Signals, the International Aeronautical and Maritime Search and Rescue Manual, Volume III, the International Telecommunication Union Radio Regulations and the following signals:

(a) A piece of orange-colored canvas with either a black square and circle or other appropriate symbol (for identification from the air);

(b) A dye marker.

6. Revise Part 88 to read as follows:

PART 88—ANNEX V: PILOT RULES

Sec.
88.01 Purpose and applicability.
88.03 Definitions.
88.05 Law enforcement vessels.
88.07 Public safety activities.

Authority: Sec. 303, Pub. L. 108-293, 118 Stat. 1042 (33 U.S.C. 2071); Department of Homeland Security Delegation No. 0170.1.

§ 88.01 Purpose and applicability.

This part applies to all vessels operating on United States inland waters and to United States vessels operating on the Canadian waters of the Great Lakes to the extent there is no conflict with Canadian law.

§ 88.03 Definitions.

The terms used in this part have the same meaning as the terms defined in part 83 of this subchapter.

§ 88.05 Law enforcement vessels.

(a) Law enforcement vessels may display a flashing blue light when engaged in direct law enforcement or public safety activities. This light must be located so that it does not interfere with the visibility of the vessel's navigation lights.

(b) The blue light described in this section may be displayed by law enforcement vessels of the United States and the States and their political subdivisions.

§ 88.07 Public safety activities.

(a) Vessels engaged in government sanctioned public safety activities, and commercial vessels performing similar functions, may display an alternately flashing red and yellow light signal. This identification light signal must be located so that it does not interfere with the visibility of the vessel's navigation lights. The identification light signal may be used only as an identification signal and conveys no special privilege. Vessels using the identification light signal during public safety activities must abide by the inland navigation rules, and must not presume that the light or the exigency gives them precedence or right of way.

(b) Public safety activities include but are not limited to patrolling marine parades, regattas, or special water celebrations; traffic control; salvage; firefighting; medical assistance; assisting disabled vessels; and search and rescue.

Dated: June 12, 2014.
Gary C. Rasicot,
Director of Marine Transportation Systems Management, U.S. Coast Guard.

[FR Doc. 2014-14413 Filed 7-1-14; 8:45 am]

BILLING CODE 9110-04-P